DEPARTMENT OF TRANSPORTATION

National Highway Traffic Safety Administration

[Docket No. NHTSA-2005-23090]

Revised Highway Safety Program Guidelines Nos. 3, 8, 14, 15, 19, and 20

AGENCY: National Highway Traffic Safety Administration (NHTSA), Department of Transportation.

ACTION: Revisions to highway safety program guidelines.

SUMMARY: Section 402 of title 23 of the United States Code requires the Secretary of Transportation to promulgate uniform guidelines for State highway safety programs.

This notice revises six of the existing guidelines to reflect program methodologies and approaches that have proven to be successful and are based on sound science and program administration. The guidelines the agency is revising today are Guideline No. 3—Motorcycle Safety, Guideline No. 8—Impaired Driving, Guideline No. 14—Pedestrian and Bicycle Safety, Guideline No. 15—Traffic Enforcement Services (formerly Police Traffic Services), Guideline No. 19—Speed Management (formerly Speed Control), and Guideline No. 20—Occupant Protection.

DATES: The revised guidelines are effective on November 7, 2006.

FOR FURTHER INFORMATION CONTACT: Susan Kirinich, Research and Program Development, NTI-100, National Highway Traffic Safety Administration, 400 Seventh Street, SW., Washington, DC 20590; Telephone: (202) 366-1755; Facsimile: (202) 366-7149.

SUPPLEMENTARY INFORMATION:

I. Background

Section 402 of title 23 of the United States Code requires the Secretary of Transportation to promulgate uniform guidelines for State highway safety programs. As the highway safety environment changes, it is necessary for NHTSA to update the guidelines to provide current information on effective program content for States to use in developing and assessing their traffic safety programs. Each of the revised guidelines reflects the best available science and the real-world experience of NHTSA and the States in developing and managing traffic safety programs. NHTSA will update the guidelines periodically to address new issues and to emphasize program methodology and approaches that have proven to be effective in these program areas.

The guidelines offer direction to States in formulating their highway safety plans for highway safety efforts that are supported with section 402 grant funds as well as safety activities funded from other sources. The guidelines provide a framework for developing a balanced highway safety program and serve as a tool with which States can assess the effectiveness of their own programs. NHTSA encourages States to use these guidelines and build upon them to optimize the effectiveness of highway safety programs conducted at the State and local levels.

The revised guidelines emphasize areas of nationwide concern and highlight effective countermeasures. The six guidelines NHTSA is revising today are the first in a series of planned revisions. As each guideline is updated, it will bear the date of its revision.

All the highway safety program guidelines, including the six guidelines revised today, will be available soon on the NHTSA Web site in the Highway Safety Grant Management Manual.

In a Notice published in the Federal Register on February 9, 2006 (71 FR 6830), the agency proposed to amend six highway safety program guidelines and requested comments on the proposed revisions. These guidelines included Guideline No. 3—Motorcycle Safety, Guideline No. 8—Impaired Driving, Guideline No. 14—Pedestrian and Bicycle Safety, Guideline No. 15—Traffic Enforcement Services (formerly Police Traffic Services), Guideline No. 19—Speed Management (formerly Speed Control), and Guideline No. 20—Occupant Protection. In response to a request from the Motorcycle Riders Foundation, the agency published a Notice extending the comment period from March 13, 2006 to March 27, 2006 (71 FR 10754).

II. Comments

The agency received approximately 1,034 comments in response to the proposed revisions. Commenters included four State agencies (the Georgia Department of Driver Services, the Louisiana Department of Public Safety and Corrections, the Florida Department of Transportation, and the Department of California Highway Patrol (CHP)); the Metropolitan Nashville Police Department; the International Association of Chiefs of Police Highway Safety Committee (IACP); the Governors Highway Safety Association (GHSA); the Chicagoland Bicycle Federation; Advocates for Highway and Auto Safety (Advocates); the National Automobile Dealers Association (NADA); the Motorcycle Riders Foundation (MRF); the American Motorcyclist Association (AMA); the Motorcycle Safety Foundation (MSF); and chapters of American Bikers Aimed Toward Education (ABATE) from three States (Delaware, Michigan, and Wisconsin). The remaining comments were from individuals, most of whom commented on the proposed Motorcycle Safety Guideline, and many of whom identified themselves as motorcyclists or members of motorcycle rider organizations such as ABATE.

A. In General

CHP expressed overall support for the guidelines, noting that it currently implements most of the principles contained in the six guidelines. The Louisiana Department of Public Safety and Corrections commented favorably regarding the proposed guidelines' consideration of State demographics and centralized program management. Advocates expressed general support for most of the proposed changes to the guidelines, and the AMA supported the guidelines as recommendations to States.

The Louisiana Department of Public Safety and Corrections additionally commented that the guidelines incorporate “a more comprehensive approach to program/problem management than previous guidelines” but remarked that this broad-based approach favors larger States that have more resources. The Louisiana Department of Safety and Corrections suggested that NHTSA provide for “scaled implementation” based on States’ relative availability of resources. Advocates commented that NHTSA should rank the criteria within the guidelines in order of importance and explain the basis for the rankings. As examples, Advocates suggested that NHTSA emphasize the need to ensure motorcycle helmet use and the need to ensure enactment of primary safety belt use laws.

The agency disagrees with the assertion that the revisions favor larger, more resource rich States or that the guidelines should prioritize program components. Consistent with Congressional direction, the guidelines provide broad guidance to the States on best practices in each program area. The guidelines provide a comprehensive framework or outline for improving safety in each area. Given the unique and changing circumstances in each State, certain guidelines may have a greater or lesser impact on the safety plans of different States. The criteria listed within each guideline are not ranked in order of importance, as the guidelines describe what a comprehensive approach to highway safety should include. The guidelines remain unchanged in response to these comments.

Advocates also commented that NHTSA should provide States with customized analyses of their section 402 programs at the beginning of each fiscal year to assist States with their programs. The purpose of the highway safety guidelines is to provide States a comprehensive description of a successful highway safety program addressing a given safety issue, not to offer a State-specific assessment of highway safety programs. Moreover, we do not intend the guidelines to be limited to activities funded under section 402, but rather to serve as a general guide to States in planning and administering all their highway safety activities. Accordingly, the agency made no changes to the guidelines as a result of this comment.

GHSA submitted a number comments responding to the guidelines in general. GHSA commented that as a result of the requirement in the Safe, Accountable, Flexible, Efficient Transportation Equity Act: A Legacy for Users (SAFETEA-LU), Pub. L. 109-59, that States develop strategic highway safety plans (SHSPs) setting statewide highway safety goals, “the current NHTSA highway safety program guidelines no longer fit the current 402 program and are not in sync with the SHSP guidance either.” GHSA asserted that the proposed revised guidelines, “while generally reflective of current knowledge about priority highway safety issues, recommend state highway safety countermeasures that go far beyond the scope of the current 402 program, far beyond the current role of the State Highway Safety Office (SHSO), and far beyond the resources available to state highway safety offices.” GHSA asked several questions about the intended use of the guidelines, their purpose (as related to other Federal highway safety programs and safety guidance), and the role of SHSOs in implementing the guidelines. More specifically, GHSA asked whether the guidelines are intended for section 402-funded programs only or are intended as guidance regarding overall highway safety programs.

GHSA also commented that “the proposed guidelines represent a highly idealized State highway safety program” that no State currently has or will attain in the near future without additional funding and staffing. According to GHSA, because SHSOs do not have authority over portions of the proposed countermeasures, the guidelines are not “optimally useful.” GHSA noted that the guidelines do not build upon existing guidance documents, such as the National Cooperative Highway Safety Research Program (NCHRP) series 500 guidance documents and the NHTSA-funded publication Countermeasures that Work, creating confusion for SHSOs and others who implement the programs. GHSA suggested that NHTSA work with the Federal Motor Carrier Safety Administration and the Federal Highway Administration (FHWA) outside the context of the highway safety program guidelines and in a way that is consistent with existing guidance documents if NHTSA desires to promulgate broad highway safety guidelines.

NHTSA is fully supportive of the SHSP process. While SAFETEA-LU places statutory requirements on the State Departments of Transportation (State DOTs) to develop SHSPs, the agency does not view this as a requirement that the State DOTs take the lead on the entire highway safety process. Just as NHTSA has worked cooperatively with FHWA to develop SHSP guidance, the agency expects the Governors' Representatives for Highway Safety (GRs), whether they are located in the State DOTs or elsewhere, to act as full partners in the development of the SHSP. In fact, the statutory language regarding SHSPs makes it clear that existing programs—including the section 402 highway safety planning process—are not replaced by, or subsumed under, the SHSP process. NHTSA is required under 23 U.S.C. 402(a) to publish program guidelines, and SAFETEA-LU not only maintained that requirement, but added guidelines to be developed. We regard the guidelines as excellent tools to assist in the development and implementation of SHSPs.

The Highway Safety Act of 1966 contemplated the use of the highway safety program guidelines as broad tools to implement traffic safety programs. With that broad framework in mind, the guidelines are comprehensive and go beyond addressing solely those activities that are funded by section 402 dollars to supporting State efforts to provide broad highway safety leadership across the State. Since the establishment of the section 402 program, GRs and SHSOs have been viewed as leaders in highway safety, with responsibilities that reach beyond behavioral issues and beyond the limits of section 402 or NHTSA funding. In fact, SHSOs are required to perform a broad safety leadership role in each State. NHTSA regulations (23 CFR 1251.4) require a State highway safety agency to be authorized to: “(a) Develop and implement a process for obtaining information about the highway safety programs administered by other State and local agencies; (b) periodically review and comment to the Governor on the effectiveness of highway safety plans and activities in the State regardless of funding source; (c) provide or facilitate the provision of technical assistance to other State agencies and political subdivisions to develop highway safety programs; and (d) provide financial and technical assistance to other State agencies and political subdivisions in carrying out highway safety programs.”

SHSOs demonstrate such leadership on a regular basis. For example, SHSOs organize high visibility enforcement mobilizations, even though SHSOs may not directly supervise State and local law enforcement. Existing statutory requirements reinforce this approach, as the agency's approval of a State highway safety program is contingent on the program providing that the Governor of a State administer the program through a State highway safety agency that has “adequate powers” and is “suitably equipped and organized” to carry out the program.

Further, the intended use of the revised guidelines is identical to the intended use of the existing guidelines—to provide broad guidance to the States on best practices in each highway safety program area. Countermeasures are more thoroughly discussed in the NCHRP series 500 guidance documents and in the NHTSA-funded publication Countermeasures that Work; these tools provide detail to fill in the framework. All of these documents, along with additional behavioral research conducted by non-Federal sources, add to the robustness of available highway safety literature.

The guidelines are not idealized; they are comprehensive. NHTSA recognizes that State needs and programs differ and acknowledges that the weight placed on certain guidelines or individual recommendations in the guidelines may vary from State to State. As in the past, the revised guidelines were prepared in cooperation with the FHWA, so that program areas such as Pedestrian/Bicycle Safety and Speed Management reflect a coordinated DOT approach.

GHSA opposed linking the highway safety program guidelines to NHTSA assessments and management reviews, recommending that the guidelines act as “guidance only,” allowing States to adapt to their particular circumstances. GHSA suggested that NHTSA use the guidelines to assess its own programs and to make certain a sufficient basis exists for the guideline contents. Finally, GHSA recommended that in the next reauthorization cycle, NHTSA propose amendments to remove guidelines for areas that are no longer priorities or areas for which SHSOs do not have jurisdiction.

The agency disagrees with GHSA's characterization of the guidelines as “linked” to management reviews. GHSA has reviewed the guidance for management reviews and special management reviews; there have been no changes to these documents based on the update of the guidelines, and none are currently planned. The program area framework in the guidelines, however, has been used as the basis for NHTSA program assessments for many years. The assessments are voluntary peer reviews often requested by States interested in improving their programs. The agency notes that in several instances, States that were identified as candidates for special management reviews (SMRs) asked if they could have an assessment in lieu of an SMR and implement the recommendations from the assessment. Only in these cases where an assessment is used in lieu on an SMR are States fully accountable for implementing the results of the assessment. Nevertheless, all States should track improvements and progress in implementing the recommendations from their peers. The agency has made no changes to the guidelines in response to GHSA's comments discussed above. GHSA's comments related to particular highway safety program guidelines are discussed below under the appropriate heading.

The agency received a number of comments we consider outside the scope of the proposed revisions to the highway safety program guidelines. These comments related to a variety of topics, including illegal aliens, street signs, public works departments, vehicle headlights, “big government,” cell phone use and other distracted driving issues. Because these comments do not fall within the subject area of the revised guidelines, the agency has not addressed them in this action. We note, however, that in SAFETEA-LU, Congress directed the agency to issue an additional guideline for reducing crashes resulting from unsafe driving behavior (aggressive or fatigued driving and distracted driving arising from the use of electronic devices in vehicles). The agency will develop and publish this guideline at a later date.

B. Comments Regarding Guideline No. 3: Motorcycle Safety

Nearly all of the approximately 1,034 comments received concerned, in whole or in part, the Motorcycle Safety guideline. Individual commenters, many of whom identified themselves as motorcyclists or members of motorcycle rider organizations such as ABATE, comprised the bulk of the comments received. Commenting motorcycle-related organizations included AMA, MRF, MSF, and three State ABATE chapters (Delaware, Michigan, and Wisconsin). Other commenters on this guideline included the Georgia Department of Driver Services, the Louisiana Department of Public Safety and Corrections, the Florida Department of Transportation (Florida DOT), IACP, GHSA, and Advocates.

1. In General

MRF and ABATE chapters of Delaware and Wisconsin commented favorably that the guideline presents an expanded approach to motorcycle safety, AMA welcomed the guideline's emphasis on crash reduction, and MSF expressed general support for the guideline.

2. Program Management

The agency received several comments concerning the Program Management section. MRF, AMA, MSF and a number of individuals expressed support for the section as written. MSF supported the provisions encouraging motorcycle crash data collection and analysis and the routine evaluation of motorcycle safety programs and services. MSF recommended the addition of a provision encouraging the collection and analysis of intermediate data (e.g., skill development, attitude change, knowledge gains). Crash, fatality and injury data are necessary to identify the types and severity of motorcycle safety problems in a State and so require specific reference. The guideline does not preclude States from using other types of data, including intermediate data. Consequently, the agency made no changes to the guideline in response to this comment.

Three individuals expressed disagreement with the Program Management section, generally asserting that the recommendations fall outside NHTSA's authority. Another individual commented that this section should specify the involvement of motorcycle safety organizations in the process. Proper program management is crucial to improving motorcycle safety. The agency agrees that motorcycle safety organizations should be included when planning State motorcycle safety programs and notes that the guideline already addresses the inclusion of motorcycle safety organizations in this section, recommending that State motorcycle safety plans “encourage collaboration among agencies and organizations responsible for, or impacted by, motorcycle safety issues.” The guideline remains unchanged in response to these comments.

3. Motorcycle Personal Protective Equipment & Legislation and Regulations

Most of the comments received related to these two sections of the guideline. Within these sections, comments largely concerned the proposed provisions related to motorcycle helmets. Advocates and a few individual commenters voiced support for the inclusion of the helmet-related provisions. Advocates further commented that these sections should rank helmet use as the top priority. As explained earlier, the agency declines to rank elements within each guideline.

The vast majority of commenters opposed the inclusion of references to motorcycle helmets. MRF, AMA, State ABATE chapters of Delaware, Michigan, and Wisconsin, and numerous individuals each voiced similar concerns. These included lobbying restrictions, general opposition to helmet laws, restrictions against tying Federal funds to helmet laws or imposing a national helmet law, State (not Federal) jurisdiction over helmet laws, individual liberty/freedom/constitutional issues, lack of proven safety benefits associated with helmet use, safety disbenefits associated with helmet use (e.g., helmets are uncomfortable and inhibit vision or hearing).

The Motorcycle Safety guideline remains unchanged in response to these comments. The guideline language does not violate lobbying restrictions, condition Federal funds on the enactment of a helmet law, constitute the imposition of a national helmet law, impede State jurisdiction over helmet laws, or violate individual liberties. The agency believes the inclusion of language recommending the use of helmets is consistent with the multitude of research confirming their safety benefits.

A comprehensive motorcycle safety program works not only to prevent crashes but to reduce injuries resulting from a crash, and motorcycle helmet use is an important component for a comprehensive State program to reduce motorcycle-related injuries. Decades of research have proven that motorcycle helmets are effective in preventing head and brain injuries when a motorcyclist is involved in a crash and that State universal motorcycle helmet laws are the most effective mechanism to ensure that motorcyclists wear helmets each time they ride. Compared to a helmeted rider, an unhelmeted rider is more likely to incur a fatal head injury. Helmets also are effective in reducing the risk of non-fatal head injuries, which often require expensive, long-term treatment and rehabilitation. The latest research, using data from 1993 to 2002, shows that helmets reduce motorcycle rider fatalities by 37 percent (Deuterman, 2004) and brain injuries by 65 percent (NHTSA, 2003).

NHTSA estimates that motorcycle helmet use is well above 90 percent in States with a universal helmet law that covers all riders and between 34 percent and 54 percent in States with no universal helmet law or a law covering only young riders (NHTSA, 2003). Motorcycle helmets are a motorcycle rider's primary protection in the event of a crash, regardless of age. Since 1997, six States have repealed their universal motorcycle helmet laws that covered riders of all ages (Texas, Arkansas, Kentucky, Louisiana, Florida, and Pennsylvania). In the first five of these States, for which we have data, observed helmet use dropped from nearly 100 percent compliance to around 50 percent within a few months. In the first year after the repeal of the universal helmet law, motorcycle fatalities for these States increased from 17 to 67 percent. Although an increase in the number of riders contributes to this increase, a large percentage of the increase correlates with decreased helmet use. In States that either reinstated or enacted a motorcycle helmet law in the past decade, helmet use has dramatically increased, and motorcyclist deaths and injuries have decreased.

In view of these dramatic statistics, a motorcycle safety guideline that contained no reference to the safety benefits of helmets would be demonstrably incomplete. Commenters should note that the highway safety program guidelines are recommendations only, and do not require States to enact helmet laws.

Several individuals also opposed the guideline's inclusion of language related to any personal protective equipment (e.g., gloves, boots, eye and face protection) or footrests. NHTSA has not changed its position on the inclusion of references to personal protective equipment or footrests since it revised the Motorcycle Safety guideline in 1995. Like helmets, other personal protective equipment and footrests are part of a comprehensive framework for improving motorcycle safety. The agency did not change the guideline in response to these comments.

4. Motorcycle Operator Licensing

The agency received several comments related to the Motorcycle Operator Licensing section of the guideline. AMA commented favorably on this section. MRF expressed support for motorcycle license endorsements but suggested, as did some individual commenters, that licensing matters are State issues. A number of individuals expressed support for all motorcyclists to obtain a license endorsement to operate a motorcycle. NHTSA agrees that licensing matters are typically State issues and notes that the guidelines are recommendations for a comprehensive State licensing program.

IACP and one individual commented that at the point of purchase, a motorcycle purchaser should be required to show a motorcycle license endorsement, learner's permit or certificate of completion of an approved motorcycle safety course. NHTSA declines to adopt this suggestion because the purchaser may not be the operator of the motorcycle and many States currently are unable to meet demands for rider training.

With respect to the guideline's provision that State licensing systems should require cross-referencing of motorcycle registrations with motorcycle licenses, some individuals commented that NHTSA should administer a grant program to help States offset the costs of implementing this cross-referencing as well as other elements of motorcycle safety programs. A handful of individuals expressed concerns about privacy or law enforcement abuse in cross-referencing registrations and licenses. Cross-referencing motorcycle registrations and licenses has proven effective in increasing the number of motorcycle operators that obtain licenses required to operate a motorcycle. This information is often used to notify registered motorcycle owners of State laws requiring license endorsements for motorcycle operation. To the agency's knowledge, this information is not shared with law enforcement. Congress has not authorized specific funding for States to conduct cross-referencing of motorcycle registrations with motorcycle licenses. The agency notes, however, that section 2010 of SAFETEA-LU authorized a motorcyclist safety grant program through Fiscal Year 2009 that would allow States to use section 2010 funds for motorcyclist safety training and motorcyclist awareness programs. The agency has made no changes to the guideline in response to these comments.

MSF advocated the inclusion of an additional element in this section-the cross-referencing of training data with operator licensing records, particularly for States in which training is a prerequisite to licensing. MSF commented that collecting this information on training at the time riders obtain licenses will provide valuable information. While the agency believes the idea suggested by MSF would assist States in linking training and crash and citation data, we decline to make a recommendation for the specific information that should be contained on State operator licenses.

Advocates and one individual commented that the agency should consider including in this section of the guideline a component related to graduated drivers licenses (GDLs) for beginning riders, regardless of age. Advocates suggested that requiring a 90-day learner's permit and restricting the number of times a person may obtain a learner's permit is insufficient to ensure a sufficient educational experience. ABATE of Wisconsin and several individuals commented that 90-day permits are not realistic in every State, as riders may have difficulty scheduling and completing testing within 90 days because of weather or inadequate staffing. Many States have GDL systems for drivers, but the agency does not feel it is appropriate for inclusion in this guideline at this time for motorcyclists. Although insufficient evidence currently exists to substantiate the effectiveness of a GDL system for motorcyclists, the agency is reviewing this issue. Experts in motorcycle safety and driver licensing, including the American Association of Motor Vehicle Administrators, recommend limiting motorcycle learner's permits to 90 days. This is necessary to limit the practice by some motorcycle riders of avoiding full licensure by continuously obtaining and operating their motorcycles on learner's permits.

The Louisiana Department of Public Safety and Corrections supported the provision limiting learner's permits to 90 days and recommended an additional provision in the guideline limiting vehicle registration to the same 90-day period. According to the Louisiana Department of Public Safety and Corrections, limiting vehicle registrations to 90 days would provide motorcycle operators an incentive to pursue full licensure and would provide law enforcement probable cause to stop motorcyclists if their license plates are expired. The guideline remains unchanged in this regard, as the agency does not believe vehicle registration should be limited to the same 90-day period as a learner's permit. Motorcyclists operating on a learner's permit do not always own the vehicle they are operating. Learner's permits and operator's licenses provide individuals with the privilege to operate any motorcycle and are not tied to the use of a specific motorcycle.

5. Motorcycle Rider Education and Training

Numerous motorcycle organizations and individuals supported motorcycle rider education and training as a means to improve safety. A few of the comments focused on rider training course curricula. MSF recommended that, rather than providing that a State should have “a mandate to use the State-approved curriculum,” the guideline should provide that a State have “a mandate to use a State-approved curriculum that meets nationally recognized standards for curriculum, materials, student evaluation, quality assurance and training, professional development and approval of instructors.” One individual commented that the language pertaining to a “mandated state-approved curriculum” is too restrictive on course providers and would not facilitate timely incorporation of newly identified problems into curricula, as changes in curricula would require State approval through legislative action. Another individual suggested that NHTSA communicate with Harley Davidson regarding its Riders Edge course.

The guideline remains unchanged in response to these comments. NHTSA declines to adopt MSF's suggestion and notes that the Motorcycle Safety guideline language already includes recommendations that State programs have a documented policy for instructor training and certification, established guidelines for conduct and quality control of the program, and a program evaluation plan. Additionally, the agency believes that the State must set the minimum requirements for each rider training course offered throughout the State. This baseline uniformity in curricula ensures that all riders obtaining training in a State are provided the same information and that training meets State licensing standards if licensing is conditioned upon the completion of training. Not all States require legislative action to make changes to motorcycle training curricula. Some States instead require administrative action to make such changes. To the extent that the requirement for legislative approval of changes in curricula would impede the inclusion of important information in curricula, the agency suggests that States instead allow administrative changes. The agency is familiar with the Riders Edge training course sponsored by Harley-Davidson, Inc. The core of the course is the same as the training course developed by MSF that is currently used in at least 45 State rider training programs.

One individual commented that NHTSA is attempting to privatize rider training and replace State-run programs. Another individual stated that a low-cost rider education course should be available to more people, pointing to the shortage of courses and long waiting lists for training nationwide. The agency does not favor privately developed rider training over publicly funded training. Decisions regarding whether a State or private entity will conduct training rest solely with States. As to the latter comment, the agency recognizes that many State programs currently cannot meet the demand for rider training courses, especially in the spring when demand is at its greatest. This section of the guideline includes a provision that each State motorcycle rider education program should address any backlog of training. The purpose of this guideline is to establish the components of a comprehensive and effective motorcycle safety program, and the agency hopes that by implementing the components of this section, States will be able to run more efficient courses and, in turn, offer more courses. The agency has made no changes to the guideline in response to these comments.

MSF suggested that NHTSA amend this section of the guideline to encourage States to offer continued training for experienced riders as well as training addressing older riders. NHTSA agrees, and we have modified the guideline to recommend that a State's program provide reasonable availability of rider education courses for all interested residents of any legal riding age and level of riding experience.

6. Motorcycle Operation Under the Influence of Alcohol or Other Drugs

MSF and some individuals expressed support for this section of the guideline. MRF, ABATE of Wisconsin and several individuals expressed concern that law enforcement may unfairly “target” motorcyclists when conducting impaired driving enforcement campaigns. The guideline merely states that States should utilize high visibility law enforcement programs to reach impaired motorcyclists. States already have impaired driving enforcement campaigns in place that address impaired drivers of all motor vehicles, and the guideline does not encourage law enforcement to “target” motorcyclists in their enforcement efforts. The guideline remains unchanged in response to these comments.

One individual proposed the inclusion of a recommendation that States lower the Blood Alcohol Content (BAC) limit to .04 for motorcyclists when operating a motorcycle. As no research exists to support this recommendation, the agency did not adopt this suggestion.

7. Law Enforcement

The agency received several positive comments regarding the Law Enforcement section of the guideline. MSF, MRF and ABATE of Delaware expressed support for educating law enforcement officers generally or with respect to problem identification. Additionally, MSF, MRF, AMA, ABATE of Wisconsin, ABATE of Delaware and a number of individual commenters supported improvements to crash investigation and data collection. MSF commented favorably on the guideline's emphasis on law enforcement training on the identification of impaired motorcycle operators.

MRF, ABATE of Wisconsin, ABATE of Delaware and several individuals questioned the feasibility and practicality of educating law enforcement officers in the identification of helmets that comply with Federal Motor Vehicle Safety Standard (FMVSS) 218 and requested removal of this provision from the guideline, noting that no list of compliant helmets exists. Although it is true that no list of compliant helmets exists, the agency does not believe a list is necessary for a law enforcement officer to determine whether a motorcycle helmet is properly certified as compliant with FMVSS 218. Certain common indicators exist. For example, a helmet that is sold without a DOT sticker attached to the back of the helmet does not comply with the standard. If additional required labels are not adhered to the inside of a helmet, it does not comply with FMVSS 218. Further, a helmet weighing one pound or less or that has anything extending further than two-tenths of an inch from its surface does not meet the standard. Information on helmet labeling and other ways to detect non-compliant helmets is available to consumers, law enforcement officers and other interested parties, without charge, on NHTSA's Web site at http://www.nhtsa.gov/people/ outreach/media/catalog/Index.cfm.

One individual stated that law enforcement should focus on lack of permits, lack of insurance and neglectful driving. NHTSA agrees that these issues are important, but does not believe they are necessary for inclusion in the guideline. The agency notes that the guideline provides that law enforcement agencies should establish goals to support motorcycle safety, which could include issues related to permits, insurance, or neglectful driving.

8. Highway Engineering

MSF, MRF, AMA, GHSA, ABATE of Wisconsin and several individuals expressed support for the Highway Engineering section of this guideline. Although generally supportive of the elements in this section, MSF suggested that the agency list other highway design and maintenance measures (e.g., grating, rain groove and metal bridge decking placement, edged trap and grade crossing construction, barrier design, work zone warnings, highway joint and crack sealants and painted roadway markings) in addition to pavement skid factors and warning signs already listed. The agency has made no changes to the guideline in response to this comment, and notes that the current language that “measures may include, but should not be limited to” pavement skid factors and warning signs indicates that the list is not exhaustive.

GHSA commented that selecting pavement skid factors is the responsibility of State DOTs, not SHSOs. As discussed earlier, SHSOs frequently take the lead on a wide range of highway safety matters, encouraging partners to adopt highway safety practices. Accordingly, even though SHSOs may not directly supervise matters related to pavement skid factors, the agency believes such measures are appropriate for inclusion in this guideline.

The proposed guideline included a statement that “balancing the needs of motorcyclists must always be considered.” The Florida DOT recommended the removal of the word “balancing” from this sentence, commenting that motorcyclists have few unique engineering needs and the use of the term “balancing” implies that competing engineering considerations must be weighed against motorcyclist safety. The agency agrees with this comment and has removed the term from the guideline.

One individual recommended the establishment of an advisory committee with participation by motorcycle organizations and State DOTs or highway departments, and another individual suggested motorcyclist involvement in determining highway safety design for motorcyclists. A third individual stated that NHTSA should focus on poor road conditions. The agency has made no change to the guideline, as these suggestions are accommodated under a separate effort. Section 1914 of SAFETEA-LU establishes a Motorcyclist Advisory Council under the auspices of FHWA. The Council will coordinate with and advise the Administrator of FHWA on infrastructure issues of concern to motorcyclists including barrier design, road design, construction and maintenance practices and intelligent transportation system technologies. FHWA is currently working to establish the Council.

9. Motorcycle Rider Conspicuity and Motorist Awareness Programs

MSF and MRF generally supported this section of the guideline. MRF, ABATE of Wisconsin and several individuals, however, indicated opposition to requirements pertaining to a particular clothing color or reflectivity combinations for all motorcycles. MSF, AMA and some individuals commented on the need for inclusion of a motorcycle awareness component in State drivers' education courses. The Motorcycle Safety guideline does not require any State to enact legislation or implement any specific programs requiring motorcyclists to wear reflective or brightly colored clothing or helmets. Likewise, the guideline does not mandate the inclusion of motorcycle awareness in drivers' education courses; however, the agency will address these awareness issues when we update Guideline No. 4—Driver Education. The agency has made no changes to the guideline in response to these comments.

Although supportive of awareness generally, Advocates indicated that it does not support any shifting of responsibility for motorcycle safety to other road users. NHTSA believes that all road users share a common responsibility for safety. The guideline does not attempt to place responsibility for motorcycle safety on any specific segment of motor vehicle operators; instead, the agency believes motorist awareness programs are important to ensure that all road users operate together safely. The agency has made no changes to the guideline in response to this comment.

The Georgia Department of Driver Services and several individuals commented on particular mechanisms to increase motorist awareness of the presence of motorcycles. According to these commenters, the guideline should “strongly encourage or require” motorcyclists” daytime use of headlight modulators. In contrast, other commenters asserted that headlight modulators are unsafe. Several individuals suggested forward facing lighting, brake light flashing, amber or red side marker lighting, and headlight strobe lighting. One individual stated that passing on the right should be illegal and that vehicles equipped with global positioning systems should include motorcycle sensors. The agency is currently researching techniques for increased conspicuity, including the effects of daytime running lights on motorcycles and other motor vehicles. The guideline is unchanged in response to these comments. The guideline retains the provision that safety programs related to rider conspicuity and motorist awareness should address daytime use of motorcycle headlights. However, as NHTSA continues to research issues related to lighting, we may consider updating the guideline to reflect research findings.

The agency received a number of comments advocating the need for increased motorist awareness of the presence of motorcycles and a comment urging specific qualifications for those teaching motorist awareness courses. The agency agrees that motorist education and awareness is an important component of a comprehensive motorcycle safety program. This continues to be a component of the Motorcycle Safety Guideline. We believe States should determine the specific criteria for approving instructors. The agency made no changes to the guideline as a result of these comments.

10. Communication Program

MSF supported the Communication Program section of this guideline. The Florida DOT commented that the scope of this section should be similar to that of the Communication Program described in Guideline No.14—Pedestrian and Bicycle Safety. The agency agrees. Consistent with the Pedestrian and Bicycle Safety and the Occupant Protection guidelines, the Motorcycle Safety guideline adds that “States should enlist the support of a variety of media, including mass media, to improve public awareness of motorcycle crash problems and programs directed at preventing them.”

Several individual commenters articulated concerns regarding a lack of funding to support communication programs. The agency notes that funds for such activities are available through a number of highway safety grant programs. We note again that the motorcyclist safety grant program authorized by section 2010 of SAFETEA-LU through Fiscal Year 2009 would allow qualifying States to use section 2010 funds for motorcyclist safety training and motorcyclist awareness programs.

11. Program Evaluation and Data

MSF, MRF, ABATE of Wisconsin and several individuals commented in support of this section. MSF suggested the identification of intermediary measures and the collection of data to support process and impact, rather than only outcome. NHTSA believes MSF's suggestion is adequately addressed in this section by the statement “encouraging, supporting and training localities in process, impact and outcome evaluation of local programs.” Process and impact evaluation include intermediary measures, such as skill development, attitude change and knowledge gains.

AMA commented that the guideline should include an increased focus on State data and record-keeping, especially with respect to motorcycle vehicle miles traveled (VMT). The agency agrees that the guideline should encourage States to collect accurate motorcycle VMT data and has added it to the final guideline.

One individual stated that NHTSA should collect data only on crashes involving interstate and international travel and commerce. The agency disagrees with this comment. First, we note that this guideline pertains to State and local data collection. Moreover, NHTSA's mission is to save lives, prevent injuries and reduce economic costs due to road traffic crashes, through education, research, safety standards and enforcement activity. It is imperative that the agency collect and analyze the broadest possible range of crash, injury and fatality data. It is through this analysis that the agency is able to identify highway safety problems and develop methods to address those problems. Limiting data collection to interstate and international travel and commerce would significantly limit the agency's ability to accomplish its mission. The agency has made no changes to the guideline in response to these comments.

One individual asked that the term “high risk population” be removed, claiming it is a biased reference to motorcyclists. As used in this section, high-risk population refers to a specific segment of motorcyclists that is at a higher risk of crash involvement than the general motorcycle population, and, thus, may provide reason for specific programs to reach them, separate from programs addressing the general riding population. Review of State crash data may identify segments of motorcycle operators that are at higher risk of crashes due to characteristics such as alcohol use, speeding, and licensure. It is important that program resources are used in the most effective way to reach both the general public and identified high-risk populations. The reference to high-risk populations remains in the guideline.

As an administrative matter, we are correcting the Program Evaluation and Data section to number it correctly as Section XI, rather than Section XII.

C. Comments Regarding Guideline No. 8: Impaired Driving

CHP, the Louisiana Department of Public Safety and Corrections, the International Association of Chiefs of Police (IACP), GHSA, the Metropolitan Nashville Police Department and four individuals commented on the Impaired Driving guideline.

1. Program Management and Strategic Planning

The agency received one comment from an individual suggesting that the guideline include institutions of higher education and the military among the parties listed as Driving While Intoxicated (DWI) task force or commission members. The agency agrees with this comment and has modified the guideline accordingly.

2. Prevention

The Louisiana Department of Public Safety and Corrections suggested that the agency add a section to provide for a standardized DWI treatment course, as courses currently vary in content and duration by jurisdiction. Treatment and the criminal justice system are addressed under Section V (Alcohol and Other Drug Misuse: Screening, Assessment, Treatment and Rehabilitation) of the Impaired Driving guideline. The agency believes that offenders must be assigned to the types of treatment most appropriate for them, based on an assessment by a certified substance abuse official. As recently explained in NHTSA's final rule amending its incentive grant program for alcohol-impaired driving prevention programs under 23 U.S.C. 410 (71 FR 20555), the agency does not endorse a specific assessment method. Accordingly, the agency has made no changes to the guideline in response to this comment.

3. Criminal Justice System

The Metropolitan Nashville Police Department commented that if the Tennessee legislature were to enact a law providing for sanctions for a blood alcohol content (BAC) test refusal at least as strict as a high BAC offense, the department “would have one of the best tools” it has ever had to deal with Driving Under the Influence (DUI). The Louisiana Department of Public Safety and Corrections expressed support for the guideline's proposal that State laws require law enforcement officers to conduct mandatory BAC testing of drivers involved in crashes producing fatal or serious injuries, stating that receipt of Federal funds should be conditioned upon a State's mandatory BAC testing of such drivers. In contrast, CHP raised objections to the inclusion of mandatory BAC testing of such drivers, citing concerns regarding departmental policies and procedures, constitutional rights of persons tested, and availability of required time and resources.

Under the section 410 grant program, States may qualify for incentive grant funds by complying with certain criteria, one of which includes enacting a law that provides for mandatory BAC testing of drivers involved in all fatal motor vehicle crashes but does not condition the administration of tests on the establishment of probable cause. The agency has revised the Impaired Driving guideline to recommend that States require mandatory BAC testing only for fatal crashes, rather than for fatal and serious injury crashes. In addition to providing consistency with the section 410 grant program, the agency believes this change strikes an appropriate balance between the need for robust BAC testing and CHP's concerns.

The Louisiana Department of Public Safety and Corrections also commented on the recommendation that each State conduct frequent, highly visible, well publicized and fully coordinated impaired driving law enforcement efforts throughout the State. Rather than conduct law enforcement efforts “statewide,” the Louisiana Department of Public Safety and Corrections asserted that levels of effort “should be tailored for the targeted community having the most severe impaired driving problem.” The agency agrees with this comment and notes that the guideline accommodates this by specifying that law enforcement efforts should be conducted “especially in locations where alcohol-related fatalities most often occur.” The agency has made no change to the guideline in response to this comment.

IACP commented that emphasis should be placed more on court system involvement and data collection and less on training and standards. The agency notes that the portion of the guideline related to enforcement recommends officer training on the latest law enforcement techniques, including Standardized Field Sobriety Testing (SFST) and, as appropriate, media relations and Drug Evaluation and Classification (DEC) training. The agency believes that such training can facilitate detection, arrest and prosecution for impaired driving offenses. The agency agrees that court involvement and data collection play important roles in the impaired driving area. However, because court system and data collection issues are addressed in other parts of the guideline (e.g., sections pertaining to Program Management and Strategic Planning, Prosecution, and Adjudication) the agency has made no changes to this section of the guideline in response to this comment.

The agency notes that it has made two conforming changes to this section of the guideline to make it consistent with the section 410 grant program. The agency has changed the high BAC level to .15 BAC or greater rather than .16 BAC or greater. Additionally, the agency has incorporated an option regarding administrative license suspension for first-time offenders for at least 15 days followed immediately by a restricted provisional or conditional license for at least 75 days if such license restricts the offender to operating only vehicles equipped with an ignition interlock.

4. Alcohol and Other Drug Misuse: Screening, Assessment, Treatment and Rehabilitation

The agency received three comments regarding this section. GHSA commented on the statement that States should encourage employers, educators and health care professionals to implement a system to screen and/or assess drivers for alcohol or drug abuse problems, and as appropriate, intervene and refer them for treatment. GHSA indicated that although it supports screening, intervention and alcohol assessments, state health agencies, not SHSOs, are responsible for developing and implementing those programs, and SHSOs could only play a secondary role in those functions. The highway safety program guidelines serve as guidance and do not impose a requirement. To the extent that highway safety offices are urging employers in their jurisdiction to discuss safety issues with their employees, such as encouraging safety belt use and discouraging impaired driving, it should not be a burden to ask employers also to screen employees for potential alcohol problems. The agency has included this element in the guideline due to the promise demonstrated by screening and brief intervention (SBI) to date. The agency believes that this innovative strategy has the potential to reduce alcohol-related and impaired driving crashes and fatalities. The cost to implement SBI is modest, research has clearly demonstrated its effectiveness in medical settings, and efforts are underway to test its viability and impact in other contexts. Employers are not a new audience for highway safety offices and do not require special efforts to reach. The guideline remains unchanged in response to this comment.

The agency received two comments from individuals related to this section of the guideline. One commenter advocated adequate minimum penalties for repeat DWI offenders, particularly those who cause injuries to others. Another commenter questioned the role of NHTSA (and the government, in general) in establishing guidelines in this area. The guideline includes language pertaining to the adoption of a broad range of effective penalties for impaired driving, including enhanced penalties for repeat offenders, vehicular homicide or causing personal injury. The agency's role in issuing this and other guidelines is directed by Congress. The agency has made no changes to the guideline in response to these comments.

D. Comments Regarding Guideline No. 14: Pedestrian and Bicycle Safety

The agency received comments from the Florida DOT, GHSA, the Chicagoland Bicycle Federation, and four individuals in response to the Pedestrian and Bicycle Safety guideline.

1. In General

GHSA generally commented that the State DOTs, not the SHSOs, are responsible for pedestrian and bicycle-related construction improvements, which cannot be funded using section 402 funds, and the Florida DOT similarly questioned the use of funds for training engineers and planners on design standards. The Florida DOT also questioned the guideline's inclusion of functions traditionally accomplished by a State's bicycle and pedestrian program coordinator or by the SHSO. Traffic safety problems require a multi-faceted approach including education, engineering and enforcement strategies, and require coordination and collaboration among many different government entities and local organizations. Since the establishment of the section 402 program, the GRs and SHSOs have identified themselves as leaders in highway safety, with knowledge that extends beyond the boundaries of the section 402 program or other NHTSA funding. The agency notes again that the Highway Safety Act of 1966 contemplated guidelines that extend beyond only those activities eligible for section 402 funding and encouraged SHSOs to provide broad highway safety leadership across the State. However, to alleviate any confusion regarding this issue, the agency has revised the guideline to include a statement in the introductory paragraph concerning the necessity for coordination among State agencies in the implementation of these highway safety programs.

The Florida DOT commented that it would be impossible for the State to accomplish all the recommendations in the proposed guideline and recommended adding language that the guideline includes “ideal circumstances, which every state should work toward.” The guideline does not adopt this suggestion. The guidelines are not idealized; they are comprehensive. Given the unique and changing circumstances in each State, certain guidelines and parts of guidelines may have a greater or lesser impact on the safety plans of different States.

2. Program Management

The agency received comments from the Florida DOT, the Chicagoland Bicycle Federation and three individuals regarding this guideline's Program Management section. The Florida DOT suggested that the statement urging the SHSO to promote the proper use of bicycle helmets also should include language regarding the promotion of proper and legal bicycling practices. Two individuals commented that helmets should be considered a secondary safety measure. The agency agrees with the Florida DOT comment and has incorporated the suggestion into the guideline. The agency has made no changes to the guideline in response to the comment that helmets should be a secondary measure and continues to recommend bicycle helmets as a primary measure of reducing death and injury.

The Florida DOT commented that the guideline component concerning support of enforcement of State bicycle and pedestrian laws by SHSOs is too narrow and should include State laws affecting bicyclists and pedestrians. The agency agrees with this comment and has changed the guideline accordingly. The Florida DOT also questioned whether the statement that the SHSO should train program staff to effectively carry out recommended activities meant it should train staff to carry out the recommendations of the guideline or actually conduct the training in the field. The agency intended the former result and has clarified the role of the SHSO in this regard by revising this portion of the guideline to read “train program staff to effectively coordinate the implementation of recommended activities.”

The Chicagoland Bicycle Federation commented that the guideline's provision urging the SHSO to develop safety initiatives to reduce fatalities and injuries among high-risk groups should include aggressive motorists as well as the language “as indicated by crash and injury trends.” The agency believes the importance of implementing a comprehensive program dependent on State demographics is sufficiently addressed in this guideline in the introductory paragraph. Although addressing aggressive motorists is an important issue, the agency believes this issue is best addressed elsewhere in the guideline. Several sections of the guideline have been changed accordingly to include language about addressing aggressive motorists or sharing the road safely.

One individual suggested that the guideline incorporate a provision for the development of State or regional plans to help improve pedestrian and bicycle safety. The agency agrees that such plans are important but has made no changes to the guideline in response to this comment, as planning is already described in the introductory paragraph of the Program Management section of the guideline.

3. Multi-Disciplinary Involvement

The Florida DOT asked whether all the communities listed in the proposed guideline (e.g., bicycle coordinators, law enforcement, education, public health) should receive grant funds and whether it is the duty of the SHSO or the State Bicycle/Pedestrian Coordinator to ensure multidisciplinary involvement. This section provides examples of the types of groups that should be involved in a comprehensive approach to developing pedestrian and bicycle safety programs and is not intended to describe groups to which grants should be distributed. The guideline addresses the role of the SHSO as a leader in the State in highway safety. The agency has made no changes to the guideline in response to this comment.

4. Legislation, Regulation and Policy

The Florida DOT, the Chicagoland Bicycle Federation and one individual submitted comments on this section. The Florida DOT and the Chicagoland Bicycle Federation suggested alternative language for the statement that States “should enact and enforce pedestrian and bicyclist-related traffic laws and regulations, including laws that require the proper use of bicycle helmets.” The Florida DOT recommended including laws that contribute to pedestrian and bicycle safety. The Chicagoland Bicycle Federation suggested including “laws that require education in schools about common causes of bicycling and walking injuries and how to avoid them.” NHTSA agrees with the former suggestion and has revised the guideline accordingly. With respect to the latter suggestion, the agency believes the Outreach Program section of the guideline is the more appropriate section in which to address the issue of bicycle and pedestrian safety education. The agency has revised that section to indicate that pedestrian and bicycle safety education should include skills training incorporated into school physical education/health curricula.

The Florida DOT also recommended the inclusion of a provision stating that laws and regulations for bicyclists should recognize their duties and rights as drivers, and one individual commented that laws should require bicyclists to follow the same rules as motorists. The agency agrees with these comments and has added a provision to the guideline that each State should enact and enforce laws that contribute to bicycle and pedestrian safety, including laws that require bicyclists to follow the same rules of the road as motorists.

The Florida DOT questioned why NHTSA can require States to pass bicycle helmet laws when State employees are unable to lobby for passage of laws. The Florida DOT also questioned whether the State Bicycle/Pedestrian Coordinator should develop policies to encourage coordination with public and private agencies in the development of regulations and laws. The highway safety program guidelines are recommendations and do not mandate enactment of laws or lobbying for legislation. This guideline presents a comprehensive approach to pedestrian and bicycle safety, including the enactment and enforcement of safety legislation. The SHSO is expected to take the lead in carrying out State highway safety programs and in coordinating with appropriate State agencies. The agency has made no changes to the guideline in response to these comments.

5. Law Enforcement

The Florida DOT and the Chicagoland Bicycle Federation commented on this section of the guideline. The Florida DOT expressed confusion about this section because it combines law enforcement responsibilities with the role of SHSOs (i.e., providing training to law enforcement personnel in pedestrian and bicycle safety). The Chicagoland Bicycle Federation offered alternative language to provide training to law enforcement personnel “on how motorists, pedestrians, and bicyclists can avoid car-pedestrian and car-bike crashes” and to enforce laws that “cause most car-pedestrian and car-bike crashes.” In response to the Florida DOT comment, as the agency previously noted, the SHSO is expected to be a leader in highway safety in the State, ensuring the implementation of a comprehensive statewide pedestrian and bicycle safety program. The Law Enforcement section of this guideline lists essential components that each State should ensure are included as part of a comprehensive program. The agency revised one bullet point in this section to indicate that an essential component of law enforcement is to ensure adequate training of law enforcement personnel. NHTSA has made no changes to the guideline in response to the Chicagoland Bicycle Federation's suggested language, as the agency does not believe the suggested changes are necessary.

6. Highway Engineering

The Florida DOT, the Chicagoland Bicycle Federation and one individual commented on Highway Engineering. The Florida DOT recommended that NHTSA use consistent references in the heading and throughout this section to “Highway Engineering” or “Highway and Traffic Engineering” to avoid confusion regarding terms. The agency agrees and has revised the guideline using the term Highway and Traffic Engineering. The Florida DOT also commented that the inclusion of the statement that “each State should ensure that State and community pedestrian and bicycle programs include a traffic engineering component that is coordinated with enforcement and educational efforts” implies that States should fund engineering grant programs. The agency has made no changes to the guideline in response to this comment. As explained above, the reach of the guidelines appropriately extends beyond only those activities that can be funded by section 402 dollars to provide broad highway safety leadership across the State.

The Chicagoland Bicycle Federation recommended adding language to this section to reference 23 U.S.C. 217, which pertains to bicycling and walking facilities. The agency believes the guideline adequately addresses pedestrian and bicycle facilities and does not require the inclusion of a specific reference to this statute. An individual suggested that the term “pedestrian pathways” used in this section is too narrow and that, instead, the term “pedestrian facilities such as sidewalks, crosswalks, curb ramps, and paths” should be used. The agency agrees with this suggested change and has revised the guideline accordingly.

7. Communication Program

The Florida DOT, the Chicagoland Bicycle Federation and one individual commented on this section. The Florida DOT stated that the communication program should refer specifically to the use of languages other than English when appropriate. The Chicagoland Bicycle Federation recommended that, in addition to visibility or conspicuity, communication programs address issues such as the “life threatening nature of speeding and aggressive driving.” The agency agrees that these recommended changes would improve the comprehensiveness of the guideline and has revised the guideline to incorporate these suggestions. Additionally, the agency has made a conforming change with respect to multilingual programs in the other five guidelines revised today.

8. Outreach Program

The agency received comments from the Florida DOT and one individual regarding this section. The Florida DOT recommended using the term “skills training” rather than “safety education.” The agency agrees that specifically mentioning “skills training” would improve the guideline, and has revised the guideline to include this language. One individual commented that the promotion of skills training should also be included in the Program Management section of this guideline. The agency agrees that skills training is an important element of a comprehensive pedestrian and bicycle safety program. However, the agency believes this element should be part of an outreach program, and does not need to be centrally coordinated by the SHSO. The agency has made no changes to the guideline in response to this comment.

9. Evaluation Program

The agency received two comments pertaining to the Evaluation Program section. The Florida DOT commented that the term “accidents” should be replaced by “crashes” because NHTSA stresses that crashes are not accidents. Although the agency typically refers to “crashes” rather than accidents, the reference to “accidents” in this section refers to “police accident reports,” which are data collection tools used by police to report motor vehicle collisions. Because “police accident report” is the accepted term of reference used by law enforcement, no change is made to the guideline.

One individual commented that the frequency of pedestrian and bicycle crashes reported should be “based on pedestrian and bicycle activity levels or rates.” Currently, it is not feasible to provide an accurate measurement of pedestrian and bicycle activity levels or rates. The guideline remains unchanged in response to this comment.

E. Comments Regarding Guideline No. 15: Traffic Enforcement Services

The agency received comments on the Traffic Enforcement Services guideline from the IACP, the Louisiana Department of Public Safety and Corrections, and GHSA.

1. In General

IACP commented that the Traffic Enforcement Services Guideline could serve as a blueprint for a strategic highway safety plan under SAFETEA-LU. SAFETEA-LU established a new core Highway Safety Improvement Program that is structured and funded to make significant progress in reducing highway fatalities. It requires SHSPs that focus on results. This requirement encompasses much more than the guideline suggests. The SHSP must be based on accurate and timely safety data, consultation with safety stakeholders and performance-based goals that address infrastructure and behavioral safety problems on all public roads.

2. Resource Management

Noting that the guideline encourages SHSOs to work with law enforcement on comprehensive resource management plans to identify and deploy resources necessary to support traffic enforcement services, GHSA asserted that SHSOs do not have expertise in this area and that NHTSA does not offer training for resource management plans. GHSA suggested that law enforcement professional organizations should have responsibility for resource management plans, and that NHTSA should provide technical assistance to those organizations. NHTSA disagrees with GHSA and notes that the agency does provide training in program management and data analysis. SHSOs should work with their grantees to develop plans and provide adequate resources to meet traffic safety needs within their States. Although law enforcement expertise would be beneficial to SHSOs, they should use the knowledge and expertise of the State and local law enforcement agencies to develop a comprehensive traffic enforcement plan. The agency has made no changes to the guideline in response to this comment.

3. Communication Program

IACP commented that this section of the guideline should emphasize feedback on communication with citizens. NHTSA agrees that feedback is necessary but believes it is adequately addressed. Specifically, this section of the guideline advocates the dissemination of information to the public about agency activities and accomplishments, the enhancement of relationships with news media and health and medical communities, the increase in the public's understanding of the enforcement agency's role in traffic safety, and the marketing of information about internal activities to sworn and civilian members of the agency. Accordingly, the guideline remains unchanged in response to this comment.

The Louisiana Department of Public Safety and Corrections asserted that States “should be afforded the opportunity to implement a level of the communications model commensurate with the problem identification and available resources.” The agency agrees with this point, but does not believe any changes to the guideline are required to accommodate this.

4. Data and Program Evaluation

GHSA commented that no SHSO or law enforcement agency has the resources to implement the evaluation program outlined in this guideline. NHTSA disagrees. Program evaluation has been a requirement for many years, and it would be detrimental to States to implement any program without an evaluation plan for measuring results. The guideline remains unchanged in response to this comment.

F. Comments Regarding Guideline No. 19: Speed Management

The agency received comments on the Speed Management guideline from IACP, CHP, the Chicagoland Bicycle Federation, Advocates, GHSA and one individual.

1. In General

NHTSA received two comments pertaining to a national speed limit. Advocates expressed support for efforts to manage vehicle speed and suggested that the National Academy of Sciences or NHTSA review the effects of the repeal of the national speed limit on safety and oil conservation. An individual expressed opposition to varying speed limits on interstates. Because issues related to a national speed limit are not within the scope of the Speed Management guideline, the agency has made no changes to the guideline in response to these comments.

The Chicagoland Bicycle Federation suggested alternative language for portions of nearly every section of the Speed Management guideline to address aggressive and distracted driving. The Chicagoland Bicycle Federation also proposed two additional sections for this guideline that would focus on aggressive and distracted driving in outreach and driver education/licensing programs. The agency notes that this guideline addresses speeding only—one component of aggressive driving. The agency plans to address aggressive and distracted driving in detail in the guideline required by SAFETEA-LU concerning unsafe driving behaviors. Accordingly, the agency has made no changes to the guideline in response to this comment.

2. Program Management

IACP commented that this guideline should incorporate working group participation by speed-measuring device manufacturers and auto manufacturers. While the Program Management and Communication Program sections of this guideline provide for the establishment of Speed Management Working Groups, the guideline does not specify working group participants. However, nothing in this guideline would prevent States from soliciting the participation of these parties in working groups.

3. Problem Identification

GHSA commented on provisions pertaining to State involvement in monitoring travel speed trends, monitoring the effects of vehicle speeds and the crash risk of setting appropriate speed limits, and evaluating effects of speed limits on safety and mobility. In particular, GHSA stated that these activities are usually conducted by State DOTs, county engineering departments, or local public works departments and that studying the effect of speeds on crash risks is a Federal research responsibility. GHSA also questioned whether any research could appropriately be funded out of the section 402 program. The agency believes that these efforts are appropriate for State and local transportation personnel, in conjunction with law enforcement and judicial and legislative authorities. The agency agrees that research is not an appropriate use of section 402 funds. However, the guideline does not contemplate research, instead referring to monitoring and evaluating—activities that are appropriate for section 402 funding. In any event, the agency notes again that these guidelines extend beyond activities that may be funded under section 402 and encourages SHSOs to work with State transportation officials to determine appropriate expenditure of funds for safety activities. The guideline is unchanged in response to this comment.

4. Engineering Countermeasures

GHSA questioned the meaning of the term “computer-based expert speed zone advisor,” whether this system exists, and whether section 402 funds are appropriate for activities related to the system. GHSA further commented that State application of traffic calming techniques to reduce speed in pedestrian and bicyclist activity areas is not a function of a SHSO and cannot be funded using section 402 funds. Finally, GHSA asserted that the development, employment and evaluation of onboard vehicle and communications technologies that prevent drivers from exceeding safe speeds are appropriate for the Federal government, not for States.

The FHWA developed the computer-based speed zone software, U.S. LIMITS. Purchase of the U.S. LIMITS software is an appropriate use of section 402 funds, provided that it is part of a comprehensive speed management program in an approved highway safety plan. The agency notes that although activities related to traffic calming techniques in bicycle and pedestrian areas cannot be conducted with section 402 funding and are not typically SHSO responsibilities, the guidelines are not exclusively tied to section 402 funding or limited to SHSO functions. The agency agrees with GHSA's assertion that the development, employment and evaluation of speed-related onboard vehicle and communications technologies are Federal government responsibilities. However, the guideline language indicates that States should promote the application of these technologies, not develop, employ or evaluate them. The agency has made no changes to the guideline in response to these comments.

5. Enforcement Countermeasures

CHP expressed opposition to the use of automated speed enforcement technologies for a variety of reasons (e.g., legality, due process, officer discretion, conflicts of interest). GHSA commented that, as with guidelines related to impaired driving, NHTSA should prepare speed sentencing guidelines. In response to the former comment, the agency believes automated speed enforcement is a legitimate component of a comprehensive speed management program and serves to enhance enforcement in areas that are unsafe for officers. As to the latter comment, the agency disagrees and believes that guidelines for non-criminal traffic infractions should be set at the State or local level. The agency did not modify the guideline in response to these comments.

G. Comments Regarding Guideline No. 20: Occupant Protection

Eight commenters responded to the Occupant Protection guideline, including NADA, IACP, Advocates, GHSA, CHP and three individuals.

1. In General

NADA commented favorably on the guideline, noting that it is consistent with NADA's involvement in the National Safety Council's Air Bag & Seat Belt Safety Campaign. NADA affirmed its commitment to working with NHTSA, the States, and other stakeholders to implement the guideline. IACP commented that the automotive industry and aftermarket motor vehicle equipment industry should be included in this guideline, although IACP did not suggest how they should be included. NHTSA does not believe that specific inclusion of these entities is necessary, as States may reach out to a variety of groups of their choice on safety issues. The agency has made no changes to the guideline in response to this comment.

Three individuals commented generally on this guideline. One individual asserted that teens should not have to ride in child restraints. Another individual commented that safety belt laws are a State issue and a third individual commented that wearing a safety belt should be a personal decision. On the basis of substantial research and safety information, NHTSA believes that children should be restrained in a booster seat until a safety belt fits them correctly—when they attain a height of 4 feet, 9 inches. NHTSA agrees that the enactment and enforcement of safety belt laws are State issues. This guideline does not require States to enact legislation or implement any specific programs. The guideline lays out elements that experience and research indicate are necessary for a comprehensive and effective occupant protection program. The guideline remains unchanged as a result of these comments.

2. Legislation, Regulation and Policy

Advocates, GHSA, and CHP commented on this section of the guideline. Advocates reiterated its comment that the guideline should emphasize the importance of primary safety belt use laws and rank all elements under the guideline in order of importance. As previously discussed, the agency believes all the elements in the guidelines are important. The criteria listed are not ranked in order of importance, as the guideline provides a comprehensive approach to occupant protection. The agency has made no changes to the guideline in response to this comment.

GHSA commented that the guideline's provision urging States to encourage motor vehicle insurers to offer economic incentives for policyholders who wear safety belts and secure children in child restraints is more appropriate for State insurance commissioners than SHSOs, as the commissioners are in a better position to reach out to insurance companies. The agency and SHSOs have a long-standing history of working with insurance associations (e.g., Insurance Institute for Highway Safety) and individual companies to promote highway safety initiatives. These efforts have often included encouraging insurance companies to offer premium discounts to encourage certain behavior. Insurance commissioners are a part of the State government structure just as DOTs and State police agencies. This guideline reflects this long-standing practice of collaborative activity with the insurance industry to promote highway safety. For this reason, the agency has made no changes to the guideline in response to this comment.

CHP commented on the guideline's recommendation that legislation permit primary enforcement requiring children under 13 years old to be properly restrained in the rear seat. CHP asserted that the guideline does not take into account varying body types or developmental factors for children under the age of 13, and is too broad, restrictive, and difficult to enforce, generating noncompliance among parents with larger children. The guideline remains unchanged in response to this comment. The agency's position on proper restraints for children under 13 years old is also reflected in the Model Law for Child Passenger Safety and is based on sound research.¹

¹ Analyses of crash data show a higher fatality risk for infant and child passengers up to age 12 in vehicles with dual air bags than in cars without passenger air bags (NHTSA, Chuck Kahane, 1996). Data shows that children are safest in the rear seat. According to an Insurance Institute for Highway Safety (IIHS) study, properly restrained children in the rear seat have the lowest crash death rates and children ages 12 and under ride safer in the rear seat when a passenger air bag is present. In vehicles without air bags, IIHS notes that children are 35 percent safer riding in the rear seat than in the front seat. According to the Partners for Child Passenger Safety, children are 40 percent more likely to be injured in the front seat. According to a 2005 report in the Journal of Pediatrics, appropriately restrained children in the rear seat are at the lowest risk of injury for all age groups.

3. Occupant Protection for Children Program

Advocates commented that the guideline does not specifically refer to booster seats and recommended that the guideline identify booster seats as a distinct safety mechanism for older children that should be incorporated into the SHSP. The agency agrees with this comment. With 24 percent of children ages 4 to 8 riding unrestrained—according to the 2005 National Occupant Protection Use (NOPUS) survey—the agency is committed to increasing the number of children using booster seats. Accordingly, the agency has incorporated a reference to booster seats in this section of the guideline.

4. Outreach Program

Advocates recommended that this section of the guideline promote efforts to provide child restraint systems to low-income families through subsidies or give-away programs, or in the alternative, that it reference the child safety and child booster seat incentive grant program authorized under section 2011 of SAFETEA-LU. The agency encourages States, as a component of a comprehensive child passenger safety program, to consider carefully crafted and administered child safety seat subsidy and/or give-away programs. The agency has added language to the Occupant Protection for Children Program section of the guideline to reflect this. The agency agrees that advising States of the section 2011 incentive grant program is important; we advise States of all our grant programs through our continuing efforts with SHSOs. However, we do not believe that this guideline is the appropriate vehicle to announce the availability of time-limited Federal grants. The availability of funds under the section 2011 program is subject to continued annual appropriations and to reauthorizing language extending the program beyond Fiscal Year 2009. The agency additionally notes that many State booster seat laws currently do not cover children up to eight years of age, the minimum threshold for eligibility under the section 2011 program.

Other Guidelines Remain Unchanged

The guidelines published by today's action also will be placed on NHTSA's Web site in the Highway Safety Grant Management Manual in the near future. These guidelines are set forth below. Other guidelines are not addressed by today's action and remain in effect and unchanged.

Highway Safety Program Guideline No. 3 Motorcycle Safety (August 2006)

Each State, in cooperation with its political subdivisions and tribal governments and other parties as appropriate, should develop and implement a comprehensive highway safety program, reflective of State demographics, to achieve a significant reduction in traffic crashes, fatalities and injuries on public roads. The highway safety program should include a comprehensive motorcycle safety program that aims to reduce motorcycle crashes and related deaths and injuries. Each comprehensive State motorcycle safety program should address the use of helmets (meeting Federal Motor Vehicle Safety Standard 218) and other protective gear, proper licensing, impaired riding, rider training, conspicuity and motorist awareness. This guideline describes the components that a State motorcycle safety program should include and the criteria that the program components should meet.

I. Program Management

Each State should have centralized program planning, implementation and coordination to identify the nature and extent of its motorcycle safety problems, to establish goals and objectives for the State's motorcycle safety program and to implement projects to reach the goals and objectives. State motorcycle safety plans should:

• Designate a lead agency for motorcycle safety;

• Develop funding sources;

• Collect and analyze data on motorcycle crashes, injuries and fatalities;

• Identify and prioritize the State's motorcycle safety problem areas;

• Encourage collaboration among agencies and organizations responsible for, or impacted by, motorcycle safety issues;

• Develop programs (with specific projects) to address problems;

• Coordinate motorcycle safety projects with those for the general motoring public;

• Integrate motorcycle safety into State strategic highway safety plans, and other related highway safety activities including impaired driving, occupant protection, speed management and driver licensing programs; and

• Routinely evaluate motorcycle safety programs and services.

II. Motorcycle Personal Protective Equipment

Each State is encouraged to have and enforce a mandatory all-rider motorcycle helmet use law. In addition, each State should encourage motorcycle operators and passengers to use the following protective equipment through an aggressive communication campaign:

• Motorcycle helmets that meet the Federal helmet standard;

• Proper clothing, including gloves, boots, long pants and a durable long-sleeved jacket; and

• Eye and face protection.

Additionally, each passenger should have a seat and footrest.

III. Motorcycle Operator Licensing

States should require every person who operates a motorcycle on public roadways to pass an examination designed especially for motorcycle operation and to hold a license endorsement specifically authorizing motorcycle operation. Each State should have a motorcycle licensing system that requires:

• Motorcycle operator's manual that contains essential safe riding information;

• Motorcycle license examination, including knowledge and skill tests, and State licensing medical criteria;

• License examiner training specific to testing of motorcyclists;

• Motorcycle license endorsement;

• Cross-referencing of motorcycle registrations with motorcycle licenses to identify motorcycle owners who may not have the proper endorsement;

• Motorcycle license renewal requirements;

• Learner's permits issued for a period of 90 days and the establishment of limits on the number and frequency of learner's permits issued per applicant to encourage each motorcyclist to get full endorsement; and

• Penalties for violation of motorcycle licensing requirements.

IV. Motorcycle Rider Education and Training

Safe motorcycle operation requires specialized training by qualified instructors. Each State should establish a State Motorcycle Rider Education Program that has:

• A source of program funding;

• A State organization to administer the program;

• A mandate to use the State-approved curriculum;

• Reasonable availability of rider education courses for all interested residents of legal riding age and varying levels of riding experience;

• A documented policy for instructor training and certification;

• Incentives for successful course completion such as licensing test exemption;

• A plan to address the backlog of training, if applicable;

• State guidelines for conduct and quality control of the program; and

• A program evaluation plan.

V. Motorcycle Operation Under the Influence of Alcohol or Other Drugs

Each State should ensure that programs addressing impaired driving include an impaired motorcyclist component. The following programs should be used to reach impaired motorcyclists:

• Community traffic safety and other injury control programs, including outreach to motorcyclist clubs and organizations;

• Youth anti-impaired driving programs and campaigns;

• High visibility law enforcement programs and communications campaigns;

• Judge and prosecutor training programs;

• Anti-impaired driving organizations' programs;

• College and school programs;

• Workplace safety programs;

• Event-based programs such as motorcycle rallies, shows, etc.; and

• Server training programs.

VI. Legislation and Regulations

Each State should enact and enforce motorcycle-related traffic laws and regulations. As part of a comprehensive motorcycle safety program each State is encouraged to have and enforce a law that requires all riders to use motorcycle helmets compliant with the Federal helmet standard. Specific policies should be developed to encourage coordination with appropriate public and private agencies in the development of regulations and laws to promote motorcycle safety.

VII. Law Enforcement

Each State should ensure that State and community motorcycle safety programs include a law enforcement component. Each State should emphasize strongly the role played by law enforcement personnel in motorcycle safety. Essential components of that role include:

• Developing knowledge of motorcycle crash situations, investigating crashes, and maintaining a reporting system that documents crash activity and supports problem identification and evaluation activities;

• Providing communication and education support;

• Providing training to law enforcement personnel in motorcycle safety, including how to identify impaired motorcycle operators and helmets that do not meet FMVSS 218; and

• Establishing agency goals to support motorcycle safety.

VIII. Highway Engineering

Traffic engineering is a critical element of any crash reduction program. This is true not only for the development of programs to reduce an existing crash problem, but also to design transportation facilities that provide for the safe movement of motorcyclists and all other motor vehicles.

The needs of motorcyclists must always be considered. Therefore, each State should ensure that State and community motorcycle safety programs include a traffic-engineering component that is coordinated with enforcement and educational efforts. This engineering component should improve the safety of motorcyclists through the design, construction, operation and maintenance of engineering measures. These measures may include, but should not be limited to:

• Considering motorcycle needs when selecting pavement skid factors; and

• Providing advance warning signs to alert motorcyclists to unusual or irregular roadway surfaces.

IX. Motorcycle Rider Conspicuity and Motorist Awareness Programs

State motorcycle safety programs, communication campaigns and state motor vehicle operator manuals should emphasize the issues of rider conspicuity and motorist awareness of motorcycles. These programs should address:

• Daytime use of motorcycle headlights;

• Brightly colored clothing and reflective materials for motorcycle riders and motorcycle helmets with high daytime and nighttime conspicuity;

• Lane positioning of motorcycles to increase vehicle visibility;

• Reasons why motorists do not see motorcycles; and

• Ways that other motorists can increase their awareness of motorcyclists.

X. Communication Program

States should develop and implement communications strategies directed at specific high-risk populations as identified by data. Communications should highlight and support specific policy and progress underway in the States and communities and communication programs and materials should be culturally relevant, multilingual as necessary and appropriate to the audience. States should enlist the support of a variety of media, including mass media, to improve public awareness of motorcycle crash problems and programs directed at preventing them. States should:

• Focus their communication efforts to support the overall policy and program;

• Review data to identify populations at risk; and

• Use a mix of media strategies to draw attention to the problem.

XI. Program Evaluation and Data

Both problem identification and continual evaluation require effective recordkeeping by State and local government. The State should identify the frequency and types of motorcycle crashes. After problem identification is complete, the State should identify appropriate countermeasures.

The State should promote effective evaluation by:

• Supporting the analysis of police accident reports involving motorcyclists;

• Encouraging, supporting and training localities in process, impact and outcome evaluation of local programs;

• Conducting and publicizing statewide surveys of public knowledge and attitudes about motorcycle safety;

• Maintaining awareness of trends in motorcycle crashes at the national level and how trends might influence activities statewide;

• Evaluating the use of program resources and the effectiveness of existing countermeasures for the general public and high-risk population;

• Collecting and reporting accurate motorcycle vehicle miles traveled data; and

• Ensuring that evaluation results are used to identify problems, plan new programs and improve existing programs.

Highway Safety Program Guideline No. 8 Impaired Driving (August 2006)

Each State, in cooperation with its political subdivisions and tribal governments and other parties as appropriate, should develop and implement a comprehensive highway safety program, reflective of State demographics, to achieve a significant reduction in traffic crashes, fatalities and injuries on public roads. The highway safety program should include an Impaired Driving component that addresses highway safety activities related to impaired driving. (Throughout this guideline, the term impaired driving means operating a motor vehicle while affected by alcohol and/or other drugs, including prescription drugs, over-the-counter medicines or illicit substances.) This guideline describes the components that a State impaired driving program should include and the criteria that the program components should meet.

I. Program Management and Strategic Planning

An effective impaired driving program should be based on strong leadership, sound policy development, program management and strategic planning, and an effective communication program. Program efforts should be data-driven, focusing on populations and geographic areas that are most at risk, and science-based, determined through independent evaluation as likely to succeed. Programs and activities should be guided by problem identification and carefully managed and monitored for effectiveness. Adequate resources should be devoted to the problem and costs should be borne, to the extent possible, by impaired drivers. Each State should include the following as part of their impaired driving program:

• Task Forces or Commissions: Convene Driving While Impaired (DWI) task forces or commissions to foster leadership, commitment and coordination among all parties interested in impaired driving issues, including both traditional and non-traditional parties, such as highway safety enforcement, criminal justice, driver licensing, treatment, liquor law enforcement, business, medical, health care, advocacy and multicultural groups, the media, institutions of higher education and the military.

• Strategic Planning: Develop and implement an overall plan for short- and long-term impaired driving activities based on careful problem identification.

• Program Management: Establish procedures to ensure that program activities are implemented as intended.

• Resources: Allocate sufficient funding, staffing and other resources to support impaired driving programs. Programs should aim for self-sufficiency and, to the extent possible, costs should be borne by impaired drivers.

• Data and Records: Establish and maintain a records system that uses data from other sources [e.g., U.S. Census, Fatality Analysis Reporting System (FARS), Crash Outcome Data Evaluation System (CODES)] to fully support the impaired driving program, and that is guided by a statewide traffic records coordinating committee (TRCC) that represents the interests of all public and private sector stakeholders and the wide range of disciplines that need the information.

• Communication Program: Develop and implement a comprehensive communications program that supports priority policies and program efforts and is directed at impaired driving; underage drinking; and reducing the risk of injury, death and resulting medical, legal, social and other costs.

II. Prevention

Prevention programs should aim to reduce impaired driving through public health approaches, including altering social norms, changing risky or dangerous behaviors and creating safer environments. Prevention programs should promote communication strategies that highlight and support specific policies and program activities and promote activities that educate the public on the effects of alcohol and other drugs, limit the availability of alcohol and other drugs, and discourage those impaired by alcohol and other drugs from driving.

Prevention programs may include responsible alcohol service practices, transportation alternatives and community-based programs carried out in schools, work sites, medical and health care facilities, and by community coalitions. Prevention efforts should be directed toward populations at greatest risk. Programs and activities should be science-based and proven effective and include a communication component. Each State should:

• Promote Responsible Alcohol Service: Promote policies and practices that prevent underage drinking by people under age 21 and over-service to people ages 21 and older.

• Promote Transportation Alternatives: Promote alternative transportation programs, such as designated driver and safe ride programs, especially during high-risk times, which enable drinkers ages 21 and older to reach their destinations without driving.

• Conduct Community-Based Programs: Conduct community-based programs that implement prevention strategies at the local level through a variety of settings, including schools, employers, medical and health care professionals, community coalitions and traffic safety programs.

○ Schools: School-based prevention programs, beginning in elementary school and continuing through college and trade school, should play a critical role in preventing underage drinking and impaired driving. These programs should be developmentally appropriate, culturally relevant and coordinated with drug prevention and health promotion programs.

○ Employers: States should provide information and technical assistance to employers and encourage employers to offer programs to reduce underage drinking and impaired driving by employees and their families.

○ Community Coalitions and Traffic Safety Programs: Community coalitions and traffic safety programs should provide the opportunity to conduct prevention programs collaboratively with other interested parties at the local level and provide communications toolkits for local media relations, advertising and public affairs activities. Coalitions may include representatives of government such as highway safety; enforcement; criminal justice; liquor law enforcement; public health; driver licensing and education; business, including employers and unions; the military; medical, health care and treatment communities; multicultural, faith-based, advocacy and other community groups; and neighboring countries, as appropriate.

III. Criminal Justice System

Each State should use the various components of its criminal justice system-laws, enforcement, prosecution, adjudication, criminal and administrative sanctions and communications-to achieve both specific and general deterrence.

Specific deterrence focuses on individual offenders and seeks to ensure that impaired drivers will be detected, arrested, prosecuted and subject to swift, sure and appropriate sanctions. Using these measures, the criminal justice system seeks to reduce recidivism. General deterrence seeks to increase the public perception that impaired drivers will face severe consequences, discouraging individuals from driving impaired.

A multidisciplinary approach and close coordination among all components of the criminal justice system are needed to make the system work effectively. In addition, coordination is needed among law enforcement agencies at the State, county, municipal and tribal levels to create and sustain both specific and general deterrence.

A. Laws

Each State should enact impaired driving laws that are sound, rigorous and easy to enforce and administer. The laws should clearly define offenses, contain provisions that facilitate effective enforcement and establish effective consequences.

The laws should define offenses to include:

• Driving while impaired by alcohol or other drugs (whether illegal, prescription or over-the-counter) and treating both offenses similarly;

• Driving with a Blood Alcohol Concentration (BAC) limit of 0.08, making it illegal “per se” to operate a vehicle at or above this level without having to prove impairment;

• Driving with a high BAC (i.e., 0.15 BAC or greater) with enhanced sanctions above the standard impaired driving offense;

• Zero Tolerance for underage drivers, making it illegal “per se” for people under age 21 to drive with any measurable amount of alcohol in their system (i.e., 0.02 BAC or greater);

• Repeat offender with increasing sanctions for each subsequent offense;

• BAC test refusal with sanctions at least as strict or stricter than a high BAC offense;

• Driving with a license suspended or revoked for impaired driving, with vehicular homicide or causing personal injury while driving impaired as separate offenses with additional sanctions;

• Open container, prohibiting possession or consumption of any open alcoholic beverage in the passenger area of a motor vehicle located on a public highway or right-of-way (limited exceptions are permitted under 23 U.S.C. 154 and its implementing regulations, 23 CFR Part 1270); and

• Primary safety belt provisions that do not require that officers observe or cite a driver for a separate offense other than a safety belt violation.

The laws should include provisions to facilitate effective enforcement that:

• Authorize law enforcement to conduct sobriety checkpoints, (i.e., stop vehicles on a nondiscriminatory basis to determine whether operators are driving while impaired by alcohol or other drugs);

• Authorize law enforcement to use passive alcohol sensors to improve the detection of alcohol in drivers;

• Authorize law enforcement to obtain more than one chemical test from an operator suspected of impaired driving, including preliminary breath tests, evidential breath tests, and screening and confirmatory tests for alcohol or other impairing drugs; and

• Require law enforcement to conduct mandatory BAC testing of drivers involved in fatal crashes.

The laws should establish effective penalties that include:

• Administrative license suspension or revocation (ALR) for failing or refusing to submit to a BAC or other drug test;

• Prompt and certain administrative license suspension of at least 90 days for first-time offenders determined by chemical test(s) to have a BAC at or above the State's “per se” level or of at least 15 days followed immediately by a restricted, provisional or conditional license for at least 75 days, if such license restricts the offender to operating only vehicles equipped with an ignition interlock;

• Enhanced penalties for BAC test refusals, high BAC, repeat offenders, driving with a suspended or revoked license, driving impaired with a minor in the vehicle, vehicular homicide or causing personal injury while driving impaired, including: longer license suspension or revocation; installation of ignition interlock devices; license plate confiscation; vehicle impoundment, immobilization or forfeiture; intensive supervision and electronic monitoring; and threat of imprisonment;

• Assessment for alcohol or other drug abuse problems for all impaired driving offenders and, as appropriate, treatment, abstention from use of alcohol and other drugs and frequent monitoring; and

• Driver license suspension for people under age 21 for any violation of law involving the use or possession of alcohol or illicit drugs.

B. Enforcement

Each State should conduct frequent, highly visible, well publicized and fully coordinated impaired driving (including zero tolerance) law enforcement efforts throughout the State, especially in locations where alcohol-related fatalities most often occur. To maximize visibility, States should maximize contact between officers and drivers, using sobriety checkpoints and saturation patrols and should widely publicize these efforts-before, during and after they occur. Highly visible, highly publicized efforts should be conducted periodically and also on a sustained basis throughout the year. To maximize resources, the State should coordinate efforts among State, county, municipal and tribal law enforcement agencies. States should utilize law enforcement liaisons, for activities such as promotion of national and local mobilizations and increasing law enforcement participation in such mobilizations and for collaboration with local chapters of police groups and associations that represent diverse groups to gain support for enforcement efforts.

Each State should coordinate efforts with liquor law enforcement officials. To increase the probability of detection, arrest and prosecution, participating officers should receive training in the latest law enforcement techniques, including Standardized Field Sobriety Testing (SFST), and selected officers should receive training in media relations and Drug Evaluation and Classification (DEC).

C. Publicizing High Visibility Enforcement

Each State should communicate its impaired driving law enforcement efforts and other elements of the criminal justice system to increase the public perception of the risks of detection, arrest, prosecution and sentencing for impaired driving. Each State should develop and implement a year-round communications plan that provides emphasis during periods of heightened enforcement, provides sustained coverage throughout the year, includes both paid and earned media and uses messages consistent with National campaigns. Publicity should be culturally relevant, appropriate to the audience and based on market research.

D. Prosecution

States should implement a comprehensive program to visibly, aggressively and effectively prosecute and publicize impaired driving-related efforts, including use of experienced prosecutors (e.g., Traffic Safety Resource Prosecutors), to help coordinate and deliver training and technical assistance to prosecutors handling impaired driving cases throughout the State.

E. Adjudication

States should impose effective, appropriate and research-based sanctions, followed by close supervision, and the threat of harsher consequences for non-compliance when adjudicating cases. Specifically, DWI Courts should be used to reduce recidivism among repeat and high BAC offenders. DWI Courts involve all criminal justice stakeholders (prosecutors, defense attorneys, probation officers and judges) along with alcohol and drug treatment professionals and use a cooperative approach to systematically change participant behavior. The effectiveness of enforcement and prosecution efforts is strengthened by knowledgeable, impartial and effective adjudication. Each State should provide state-of-the-art education to judges, covering SFST, DEC, alternative sanctions and emerging technologies.

Each State should utilize DWI courts to help improve case management and to provide access to specialized personnel, speeding up disposition and adjudication. DWI courts also increase access to testing and assessment to help identify DWI offenders with addiction problems and to help prevent them from re-offending. DWI courts additionally help with sentence monitoring and enforcement. Each State should provide adequate staffing and training for probation programs with the necessary resources, including technological resources, to monitor and guide offender behavior.

F. Administrative Sanctions and Driver Licensing Programs

States should use administrative sanctions, including the suspension or revocation of an offender's driver's license; the impoundment, immobilization or forfeiture of a vehicle; the impoundment of a license plate; or the use of ignition interlock devices, which are among the most effective actions to prevent repeat impaired driving offenses. In addition, other licensing activities can prove effective in preventing, deterring and monitoring impaired driving, particularly among novice drivers. Publicizing related efforts is part of a comprehensive communications program.

• Administrative License Revocation and Vehicle Sanctions: Each State's Motor Vehicle Code should authorize the imposition of administrative penalties by the driver licensing agency upon arrest for violation of the state's impaired driving laws, including administrative driver's license suspension, vehicle sanctions and installation of ignition interlock devices.

• Programs: Each State's driver licensing agency should conduct programs that reinforce and complement the State's overall program to deter and prevent impaired driving, including graduated driver licensing (GDL) for novice drivers, education programs that explain alcohol's effects on driving and the State's zero tolerance laws and a program to prevent individuals from using a fraudulently obtained or altered driver's license.

IV. Communication Program

States should develop and implement a comprehensive communication program that supports priority policies and program efforts. Communication programs and materials should be culturally relevant and multilingual as appropriate. States should:

• Develop and implement a year-round communication plan that includes policy and program priorities; comprehensive research; behavioral and communications objectives; core message platforms; campaigns that are audience relevant and linguistically appropriate; key alliances with private and public partners; specific activities for advertising, media relations and public affairs; special emphasis periods during high risk times; and evaluation and survey tools;

• Employ a communications strategy principally focused on increasing knowledge and awareness, changing attitudes and influencing and sustaining appropriate behavior;

• Use traffic-related data and market research to identify specific audiences segments to maximize resources and effectiveness; and

• Adopt a comprehensive marketing approach that coordinates elements like media relations, advertising and public affairs/advocacy.

V. Alcohol and Other Drug Misuse: Screening, Assessment, Treatment and Rehabilitation

Impaired driving frequently is a symptom of a larger alcohol or other drug problem. Many first-time impaired driving offenders and most repeat offenders have alcohol or other drug abuse or dependency problems. Without appropriate assessment and treatment, these offenders are more likely to repeat their crimes.

In addition, alcohol use leads to other injuries and health care problems. Frequent visits to emergency departments present an opportunity for intervention, which might prevent future arrests or motor vehicle crashes, and result in decreased alcohol consumption and improved health.

Each State should encourage its employers, educators and health care professionals to implement a system to identify, intervene and refer individuals for appropriate substance abuse treatment.

• Screening and Assessment: Each State should encourage its employers, educators and health care professionals to have a systematic program to screen and/or assess drivers to determine whether they have an alcohol or drug abuse problem and, as appropriate, briefly intervene or refer them for appropriate treatment. A marketing campaign should promote year-round screening and brief intervention to medical, health and business partners and to identified audiences. In particular:

• Criminal Justice System: Within the criminal justice system, people convicted of an impaired driving offense should be assessed to determine whether they have an alcohol or drug abuse problem and whether they need treatment. The assessment should be required by law and completed prior to sentencing or reaching a plea agreement.

• Medical and Health Care Settings: Within medical or health care settings, any adult or adolescent seen by a medical or health care professional should be screened to determine whether they may have an alcohol or drug abuse problem. A person may have a problem with alcohol abuse or dependence, a brief intervention should be conducted and, if appropriate, the person should be referred for assessment and further treatment.

• Treatment and Rehabilitation: Each State should work with health care professionals, public health departments and third party payers to establish and maintain treatment programs for persons referred through the criminal justice system, medical or health care professionals and other entities. This will help ensure that offenders with alcohol or other drug dependencies begin appropriate treatment and complete recommended treatment before their licenses are reinstated.

• Monitoring Impaired Drivers: Each State should establish a program to facilitate close monitoring of impaired drivers. Controlled input and access to an impaired driver tracking system, with appropriate security protections, is essential. Monitoring functions should be housed in the driver licensing, judicial, corrections and treatment systems. Monitoring systems should be able to determine the status of all offenders in meeting their sentencing requirements for sanctions and/or rehabilitation and must be able to alert courts to non-compliance. Monitoring requirements should be established by law to assure compliance with sanctions by offenders and responsiveness of the judicial system. Non-compliant offenders should be handled swiftly either judicially or administratively. Many localities are successfully utilizing DWI courts or drug courts to monitor DWI offenders.

VI. Program Evaluation and Data

Each State should have access to and analyze reliable data sources for problem identification and program planning. Each State should conduct several different types of evaluations to effectively measure progress, to determine program effectiveness, to plan and implement new program strategies and to ensure that resources are allocated appropriately.

Each State should establish and maintain a records system that uses data from other sources (e.g., U.S. Census, FARS, CODES) to fully support the impaired driving program. A statewide traffic records coordinating committee that represents the interests of all public and private sector stakeholders and the wide range of disciplines that need the information should guide the records system.

Each State's driver licensing agency should maintain a system of records that enables the State to: (1) Identify impaired drivers; (2) maintain a complete driving history of impaired drivers; (3) receive timely and accurate arrest and conviction data from law enforcement agencies and the courts, including data on operators as prescribed by the commercial driver licensing regulations; and (4) provide timely and accurate driver history records to law enforcement and the courts.

Highway Safety Program Guideline No. 14 Pedestrian and Bicycle Safety (August 2006)

Each State, in cooperation with its political subdivisions and tribal governments and other parties as appropriate, should develop and implement a comprehensive highway safety program, reflective of State demographics, to achieve a significant reduction in traffic crashes, fatalities and injuries on public roads. The highway safety program should include a comprehensive pedestrian and bicycle safety program that promotes safe pedestrian and bicycle practices, educates drivers to share the road safely with other road users and provides safe facilities for pedestrians and bicyclists through a combination of policy, enforcement, communication, education, incentive and engineering strategies. This guideline describes the components that a State pedestrian and bicycle safety program should include and the criteria that the program components should meet. Given the multidisciplinary nature of the highway safety problem, implementation of a comprehensive pedestrian and bicycle safety program requires coordination among several State agencies.

I. Program Management

Each State should have centralized program planning, implementation and coordination to promote pedestrian and bicycle safety program issues as part of a comprehensive highway safety program. Evaluation should be used to revise existing programs, develop new programs and determine progress and success of pedestrian and bicycle safety programs. The State Highway Safety Office (SHSO) should:

• Train program staff to effectively coordinate the implementation of recommended activities;

• Provide leadership, training and technical assistance to other State agencies and local pedestrian and bicycle safety programs and projects;

• Conduct regular problem identification and evaluation activities to determine pedestrian and bicyclist fatality, injury and crash trends and to provide guidance in development and implementation of countermeasures;

• Promote proper and legal riding practices and the proper use of bicycle helmets as a primary measures to reduce death and injury among bicyclists;

• Coordinate with the State Department of Transportation to ensure provision of a safe environment for pedestrians and bicyclists through engineering measures such as sidewalks and bicycle facilities in the planning and design of all highway projects;

• Support the enforcement by local enforcement agencies of State laws affecting pedestrians and bicyclists; and

• Develop safety initiatives to reduce fatalities and injuries among high-risk groups as indicated by crash and injury data trends, including children, older adults and alcohol-impaired pedestrians and bicyclists.

II. Multi-Disciplinary Involvement

Pedestrian and bicyclist safety requires the support and coordinated activity of multidisciplinary agencies, at both the State and local levels. At a minimum, the following communities should be involved:

• State Pedestrian/Bicycle Coordinators;

• Law Enforcement and Public Safety;

• Education;

• Public Health and Medicine;

• Driver Education and Licensing;

• Transportation—Engineering, Planning, Local Transit ;

• Media and Communications;

• Community Safety Organizations; and

• Non-Profit Organizations.

III. Legislation, Regulation and Policy

Each State should enact and enforce traffic laws and regulations, including laws that contribute to the safety of pedestrians and bicyclists. This includes laws that require the proper use of bicycle helmets and laws that require bicyclists to follow the same rules of the road as motorists. States should develop and enforce appropriate sanctions that compel compliance with laws and regulations. Specific policies should be developed to encourage coordination with appropriate public and private agencies in the development of regulations and laws to promote pedestrian and bicyclist safety.

IV. Law Enforcement

Each State should ensure that State and community pedestrian and bicycle programs include a law enforcement component. Each State should strongly emphasize the role played by law enforcement personnel in pedestrian and bicyclist safety. Essential components of that role include:

• Developing knowledge of pedestrian and bicyclist crash situations, investigating crashes and maintaining a reporting system that documents crash activity and supports problem identification and evaluation activities;

• Providing communication and education support;

• Ensuring adequate training to law enforcement personnel on effective measures to reduce crashes among pedestrians and bicyclists;

• Establishing agency policies to support pedestrian and bicycle safety;

• Enforcing pedestrian and bicycle laws, and all laws that affect the safety of pedestrians and bicyclists, including those aimed at aggressive drivers;

• Coordinating with and supporting education and engineering activities; and

• Suggesting creative strategies to promote safe pedestrian, bicyclist and motorist behaviors (e.g., citation diversion classes for violators).

V. Highway and Traffic Engineering

Highway and traffic engineering is a critical element of any motor vehicle crash reduction program, but is especially important for the safe movement of pedestrians and bicyclists. States should utilize national guidelines for constructing safe pedestrian and bicycle facilities in all new transportation projects, and are required to follow all Federal regulations on accessibility.

Each State should ensure that State and community pedestrian and bicycle programs include a highway and traffic engineering component that is coordinated with enforcement and educational efforts. This engineering component should improve the safety of pedestrians and bicyclists through the design, construction, operation and maintenance of engineering measures such as:

• Pedestrian, bicycle and school bus loading zone signals, signs and markings;

• Parking regulations;

• Traffic calming, or other approaches for slowing traffic and improving safety;

• On-road facilities (e.g., signed routes, marked lanes, wide curb lanes, paved shoulders);

• Sidewalk design;

• Pedestrian facilities such as sidewalks, crosswalks, curb ramps and paths;

• Off-road bicycle facilities (trails and paths); and

• Accommodations for people with disabilities.

VI. Communication Program

Each State should ensure that State and community pedestrian and bicycle programs contain a comprehensive communication component to support program and policy efforts. This component should address coordination with traffic engineering and law enforcement efforts, school-based education programs, communication and awareness campaigns, and other focused educational programs such as those for seniors and other identified high-risk populations. The State should enlist the support of a variety of media, including mass media, to improve public awareness of pedestrian and bicyclist crash problems and programs directed at preventing them. Communication programs and materials should be culturally relevant and multilingual as appropriate, and should address issues such as:

• Visibility, or conspicuity, in the traffic system;

• Correct use of facilities and accommodations;

• Law enforcement initiatives;

• Proper street crossing behavior;

• Safe practices near school buses, including loading and unloading practices;

• The nature and extent of traffic related pedestrian and bicycle fatalities and injuries;

• Driver training regarding pedestrian and bicycle safety;

• Rules of the road;

• Proper selection, use, fit and maintenance of bicycles and bicycle helmets;

• Skills training of bicyclists;

• Sharing the road safely among motorists and bicyclists; and

• The dangers that aggressive driving, including speeding, pose for pedestrians and bicyclists.

VII. Outreach Program

Each State should encourage extensive community involvement in pedestrian and bicycle safety education by involving individuals and organizations outside the traditional highway safety community. Outreach efforts should include a focus on reaching vulnerable road users, such as older pedestrians, young children and new immigrant populations. States should also incorporate pedestrian and bicycle safety education and skills training into school physical education/health curricula. To encourage community and school involvement, States should:

• Establish and convene a pedestrian and bicycle safety advisory task force or coalition to organize and generate broad-based support for pedestrian and bicycle programs;

• Create an effective communications network among coalition members to keep members informed and to coordinate efforts;

• Integrate culturally relevant pedestrian and bicycle safety programs into local traffic safety injury prevention initiatives and local transportation plans;

• Provide culturally relevant materials and resources to promote pedestrian and bicycle safety education programs;

• Ensure that highway safety in general, and pedestrian and bicycle safety in particular, are included in the State-approved K-12 health and safety education curricula and textbooks, and in materials for preschool age children and their caregivers;

• Encourage the promotion of safe pedestrian and bicyclist practices (including practices near school buses) through classroom and extra-curricular activities; and

• Establish and enforce written policies requiring safe pedestrian and bicyclist practices to and from school, including proper use of bicycle helmets on school property.

VIII. Driver Education and Licensing

Each State should address pedestrian and bicycle safety in State driver education training, materials and licensing programs in the classroom and behind the wheel, including strategies for motorists and bicyclists on safely sharing the road.

IX. Evaluation Program

Both problem identification and evaluation of pedestrian and bicycle crashes require effective record keeping by State and local government representatives. The State should identify the frequency and type of pedestrian and bicycle crashes to inform selection, implementation and evaluation of appropriate countermeasures. The State should promote effective program evaluation by:

• Supporting detailed analyses of police accident reports involving pedestrians and bicyclists;

• Encouraging, supporting and training localities in process, impact and outcome evaluation of local programs;

• Conducting and publicizing statewide surveys of public knowledge and attitudes about pedestrian and bicyclist safety;

• Maintaining awareness of trends in pedestrian and bicyclist crashes at the national level and how this might influence activities statewide;

• Evaluating the use of program resources and the effectiveness of existing countermeasures for the general public and high-risk populations; and

• Ensuring that evaluation results are used to identify problems, plan new programs and improve existing programs.

Highway Safety Program Guideline No. 15 Traffic Enforcement Services (August 2006)

Each State, in cooperation with its political subdivisions and tribal governments and other parties as appropriate, should develop and implement a comprehensive highway safety program, reflective of State demographics, to achieve a significant reduction in traffic crashes, fatalities and injuries on public roads. The highway safety program should include a traffic enforcement services program designed to enforce traffic laws and regulations; reduce traffic-crashes and resulting fatalities and injuries; provide aid and comfort to the injured; investigate and report specific details and causes of traffic crashes; supervise traffic crash and highway incident clean-up; and maintain safe and orderly movement of traffic along the highway system. This guideline describes the components that a State traffic enforcement services program should include and the minimum criteria that the program components should meet.

I. Program Management

A. Planning and Coordination

Each State should have centralized program planning, implementation and coordination to achieve and sustain effective traffic enforcement services. The State Highway Safety Office (SHSO) should provide the leadership, training and technical assistance necessary to:

• Develop and implement a comprehensive highway safety plan for all traffic enforcement service programs, in cooperation with law enforcement (i.e., State, county, local or tribal law enforcement agency leaders);

• Generate broad-based support for traffic enforcement programs;

• Coordinate traffic enforcement services with other traffic safety program areas including commercial motor vehicle (CMV) safety activities such as the Motor Carrier Safety Assistance Program; and

• Integrate traffic enforcement services into traffic safety and other injury prevention programs.

B. Program Elements

State, local and tribal law enforcement agencies, in conjunction with the SHSO, should establish traffic safety services as a priority within their comprehensive enforcement programs. A law enforcement program should be built on a foundation of commitment, cooperation, planning, monitoring, and evaluation within the agency's enforcement program. State, local and tribal law enforcement agencies should:

• Provide the public with effective and efficient traffic enforcement services through enabling legislation and regulations;

• Coordinate activities with State Departments of Transportation to ensure both support and accurate date collection;

• Develop and implement a comprehensive traffic enforcement services program that is focused on general deterrence and inclusive of impaired driving (i.e., alcohol or other drugs), safety belt use and child passenger safety laws, motorcycles, speeding and other programs to reduce hazardous driving behaviors;

• Develop cooperative working relationships with other governmental agencies, community organizations and traffic safety stakeholders on traffic safety and enforcement issues;

• Maintain traffic enforcement strategies and policies for all area of traffic safety including roadside sobriety checkpoints, safety belt use, pursuit driving, crash investigating and reporting, speed enforcement and hazardous moving traffic violations; and

• Establish performance measures for traffic enforcement services that are both qualitative and quantitative.

Traffic enforcement services should look beyond the issuance of traffic citations to include enforcement of criminal laws and that address drivers of all types of vehicles, including trucks and motorcycles.

II. Resource Management

The SHSO should encourage law enforcement agencies to develop and maintain a comprehensive resource management plan that identifies and deploys resources necessary to effectively support traffic enforcement services. The resource management plan should include a specific component on traffic enforcement services and safety, integrating traffic enforcement services and safety initiatives into a comprehensive agency enforcement program. Law enforcement agencies should:

• Periodically conduct assessments of traffic enforcement service demands and resources to meet identified needs;

• Develop a comprehensive resource management plan that includes a specific traffic enforcement services and safety component;

• Define the management plan in terms of budget requirements and services to be provided; and

• Develop and implement operational strategies and policies that identify the deployment of traffic enforcement services resources to address program demands and agency goals.

III. Training

Training is essential to support traffic enforcement services and to prepare law enforcement officers to effectively perform their duties. Training accomplishes a wide variety of necessary goals and can be obtained through a variety of sources. Law enforcement agencies should periodically assess enforcement activities to determine training needs and to ensure training is endorsed by the state Police Officers Standards and Training (POST) agency. Effective training should:

• Provide officers the knowledge and skills to act decisively and correctly;

• Increase compliance with agency enforcement goals;

• Assist in meeting priorities;

• Improve compliance with established policies;

• Result in greater productivity and effectiveness;

• Foster cooperation and unity of purpose;

• Help offset liability actions and prevent inappropriate conduct by law enforcement officers;

• Motivate and enhance officer professionalism; and

• Require traffic enforcement knowledge and skills for all recruits. Law enforcement agencies should:

• Provide traffic enforcement in-service training to experienced officers;

• Provide specialized CMV in-service training to traffic enforcement officers as appropriate;

• Conduct training to implement specialized traffic enforcement skills, techniques, or programs; and

• Train instructors using certified training in order to increase agency capabilities and to ensure continuity of specialized enforcement skills and techniques.

IV. Traffic Law Enforcement

Providing traffic enforcement services and the enforcement of traffic laws and ordinances is a responsibility shared by all law enforcement agencies. Among the primary objectives of this function is encouraging motorists and pedestrians to comply voluntarily with the laws and ordinances. Administrators should apply their enforcement resources in a manner that ensures the greatest impact on traffic safety. Traffic enforcement services should:

• Include accurate problem identification and countermeasure design;

• Apply at appropriate times and locations, coupled with paid media and communication efforts designed to make the motoring public aware of the traffic safety problem and planned enforcement activities; and

• Include a system to document and report results.

V. Communication Program

States should develop and implement communication strategies directed at supporting policy and program elements. Public awareness and knowledge about traffic enforcement services are essential for sustaining increased compliance with traffic laws and regulations. Communications should highlight and support specific program activities underway in the community and communication programs and materials should be culturally relevant, appropriate to the audience and multilingual as necessary. This requires a well-organized, effectively managed social marketing campaign that addresses specific high-risk populations. The SHSO, in cooperation with law enforcement agencies, should develop a statewide communications plan and campaign that:

• Identifies and addresses specific audiences at particular risk;

• Addresses enforcement of safety belt use, child passenger safety, impaired driving, speed and other serious traffic laws;

• Capitalizes on special events and awareness campaigns;

• Identifies and supports the efforts of traffic safety activist groups, community coalitions and the health and medical community to gain increased support of, and attention to, traffic safety and enforcement;

• Uses national themes, events and materials;

• Motivates the public to support increased enforcement of traffic laws;

• Educates and reminds the public about traffic laws and safe driving behaviors;

• Disseminates information to the public about agency activities and accomplishments;

• Enhances relationships with news media and health and medical communities;

• Provides safety education and community services;

• Provides legislative and judicial information and support;

• Increases the public's understanding of the enforcement agency's role in traffic safety;

• Markets information about internal activities to sworn and civilian members of the agency;

• Enhances the agency's safety enforcement role and increases employee understanding and support; and

• Recognizes employee achievements.

VI. Data and Program Evaluation

The SHSO, in conjunction with law enforcement agencies, should develop a comprehensive evaluation program to measure progress toward established project goals and objectives; effectively plan and implement statewide, county, local and tribal traffic enforcement services programs; optimize the allocation of limited resources; measure the impact of traffic enforcement on reducing crime and traffic crashes, injuries and deaths; and compare costs of criminal activity to costs of traffic crashes. Data should be collected from police accident reports, daily officer activity reports that contain workload and citation information, highway department records (e.g., traffic volume), citizen complaints and officer observations. Law enforcement managers should:

• Include evaluation in initial program planning efforts to ensure that data will be available and that sufficient resources will be allocated;

• Report results regularly to project and program managers, law enforcement decision-makers and members of the public and private sectors;

• Use results to guide future activities and to assist in justifying resources to governing bodies;

• Conduct a variety of surveys to assist in determining program effectiveness, such as roadside sobriety surveys, speed surveys, license checks, belt use surveys and surveys measuring public knowledge and attitudes about traffic enforcement programs;

• Evaluate the effectiveness of services provided in support of priority traffic safety areas;

• Maintain and report traffic data to appropriate repositories, such as police accident reports, the FBI Uniform Crime Report, FMCSA's SAFETYNET system and annual statewide reports; and

• Evaluate the impact of traffic enforcement services on criminal activity. An effective records program should:

• Provide information rapidly and accurately;

• Provide routine compilations of data for management use in the decision making process;

• Provide data for operational planning and execution;

• Interface with a variety of data systems, including statewide traffic safety records systems; and

• Be accessible to enforcement, planners and management.

Highway Safety Program Guideline No. 19 Speed Management (August 2006)

Each State, in cooperation with its political subdivisions and tribal governments and other parties as appropriate, should develop and implement a comprehensive highway safety program, reflective of State demographics, to achieve a significant reduction in traffic crashes, fatalities and injuries on public roads. The highway safety program should include a comprehensive speed management program that encourages citizens to voluntarily comply with speed limits. This guideline describes the components that a State speed management program should contain and the criteria that the program components should meet.

Speed management involves a balanced program effort that includes: Defining the relationship between speed, speeding and safety; applying road design and engineering measures to obtain appropriate speeds; setting speed limits that are safe and reasonable; applying enforcement efforts and appropriate technology that effectively address speeders and deter speeding; marketing communication and educational messages that focus on high-risk drivers; and soliciting the cooperation, support and leadership of traffic safety stakeholders.

I. Program Management

While speeding is a national problem, effective solutions must be applied locally. The success of a speed management program is enhanced by coordination and cooperation among the engineering, enforcement and educational disciplines. To reduce speeding-related fatalities, injuries and crashes, State, local or tribal governments should:

• Provide the NHTSA Speed Management Workshop that offers a comprehensive approach to speed management through partnering with a broad range of transportation and safety disciplines. This multi-disciplinary team improves communication and cooperation and facilitates the development of innovative strategies for reducing speeding-related fatalities and injuries.

• Establish a Speed Management Working Group as outlined in the Speed Management Workshop Guidelines to develop and implement a localized action plan that identifies specific speeding and speeding-related crash problems and the actions necessary to address problems and to establish the credibility of posted speed limits. The action plan should:

• Galvanize a localized effort and identify specific actions to be taken to effectively address managing speed and reducing speeding-related crash risks;

• Address how to effectively overcome institutional and jurisdictional barriers to setting appropriate speed limits and enforcement practices;

• Address how to effectively coordinate with stakeholders across organizations and disciplines to improve support needed for establishing an effective speed management program; and

• Address how to effectively communicate and exchange information between the transportation disciplines and the public to reinforce the importance of setting and enforcing appropriate speed limits.

II. Problem Identification

The relationship between speed limits, travel speeds and speed differential are the defining components of speed management as a highway safety issue. Speed increases crash severity, however, crash probability resulting from speed and speed differential is not clearly defined. Data collection and analysis is required to identify and develop countermeasures and awareness initiatives that lead to appropriate modifications in driver behavior. To achieve this goal, States should assist Speed Management Working Groups in making appropriate decisions about resource allocation. Each State should provide leadership, training and technical assistance to:

• Monitor and report travel speed trends across the entire localized road network;

• Identify local road segments where excessive and inappropriate vehicle speeds contribute to speeding-related crashes;

• Monitor the effects on vehicle speeds and crash risk of setting appropriate speed limits; and

• Coordinate, monitor and evaluate the short- and long-term effect of State legislative and local ordinance changes that establish appropriate speed laws and posted speed limits on mobility and safety.

III. Engineering Countermeasures

The establishment of appropriate speed limits facilitates voluntary public compliance and is the cornerstone for effective speed management. Speed management techniques and technology can be engineered into the existing highway system or incorporated into the Intelligent Transportation System to improve voluntary compliance with speed limits and prevent speeding. The State should aid established Speed Management Working Groups by providing the leadership, training and technical assistance necessary to:

• Comply with the Manual on Uniform Traffic Control Devices guidelines to establish appropriate speed limits;

• Provide a computer-based expert software system speed zone advisor to set credible, safe and consistent speed limits;

• Train traffic engineers in the proper techniques to deploy speed-monitoring devices and conduct engineering studies for the purpose of establishing appropriate speed limits;

• Determine and apply the appropriate frequency for speed limit signs;

• Identify sites and applications where variable speed limit signs can reinforce appropriate speed limits for prevailing conditions;

• Identify and apply appropriate traffic calming techniques for reducing speed in pedestrian and bicyclist activity areas;

• Employ speed-activated roadside displays that warn drivers exceeding safe speeds based on roadway curve geometry, pavement friction and/or vehicle characteristics; and

• Promote the application of onboard vehicle and communication technologies that prevent drivers from exceeding safe speeds, including adaptive cruise control, vehicle limit sensing and feedback, driver control speed limitors, wireless roadside beacons, vehicle infrastructure integrated safety systems and stability control systems.

IV. Communication Program

Communication strategies, accompanied by enforcement, can modify driver behavior. Communication programs should be developed to ensure motorist acceptance and to enhance compliance with the introduction of revised speed limits and strict enforcement operations. Communication programs and materials should be cultural relevant and multilingual as appropriate. If the public is not aware of, or does not understand, the potential consequences of speeding to themselves and others, they are unlikely to adjust speeds for traffic and weather conditions, or to comply with posted speed limits. The State should aid established Speed Management Working Groups by providing the leadership, training and technical assistance necessary to:

• Develop and evaluate culturally relevant public awareness campaigns to educate drivers on the importance of obeying speed limits and the potential consequences of speeding;

• Use market research to identify and clearly understand how, when and where to reach high-risk drivers;

• Develop a strategy to educate the public about why and how speed limits are set;

• Capitalize on special enforcement activities or events such as saturation patrols and sobriety checkpoints, impaired driving crackdowns, occupant protection mobilizations, and other highly publicized sustained enforcement activities;

• Identify and collaboratively support efforts of highway safety partners, traffic safety stakeholders and the health and medical communities to include speed management as a priority safety, economic and public health issue; and

• Promote responsible driver behavior and speed compliance in advertising.

V. Enforcement Countermeasures

Enforcement is critical to achieve compliance with speed limits. More than half of all traffic stops result from speeding violations, and public support for speed enforcement activities depends on the confidence of the public that speed enforcement is fair, rational and motivated by safety concerns. The State should provide the leadership, training and technical assistance necessary to:

• Support speed enforcement operations that:

○ Compliment a comprehensive speed management program including traffic engineering, enforcement, judiciary and public support;

○ Strategically address speeders, locations and conditions most common or most hazardous in speeding-related crashes; and

○ Support the national commercial motor vehicle safety enforcement program;

• Integrate speed enforcement into related highway safety and priority enforcement activities such as impaired driving prevention, safety belt use, motorcycle rider training and other injury control activities;

• Provide speed enforcement guidelines that promote driver compliance with appropriately set speed limits;

• Coordinate speed enforcement programs with educational and media communication activities;

• Ensure the accuracy and reliability of speed-measuring devices used during speed enforcement operations through compliance with the appropriate performance specifications and established testing protocols;

• Ensure the knowledge, skills and abilities of law enforcement officers involved in speed enforcement activities through comprehensive speed management training and appropriate speed-measuring device operator training programs; and

• Promote the proper use of automated speed enforcement programs, application of automated speed enforcement technologies and compliance with automated speed enforcement implementation guidelines designed to deter speeding effectively and to prohibit revenue generation beyond reasonable operational cost.

VI. Legislation, Regulation and Policy

A key component of a successful speed management program is consistent, effective public policy to support speed management strategies and countermeasures. Traffic court judges, prosecutors, safety organizations, health professionals, lawmakers and policy makers have a stake in establishing the legitimacy of speed limits and effectively managing speed to reduce injuries and fatalities. The support and leadership of traffic court judges and prosecutors is essential to ensure that speeding violations are treated seriously and consistently. Safety goals can only be achieved through the leadership of local authorities who are responsible for implementing most speed management measures. Each State should aid established Speed Management Working Groups by providing the leadership, training and technical assistance necessary to:

• Promote speed management as a public policy priority;

• Create a network of key partners to carry the speed management message and leverage their resources to extend the reach and frequency of a speed management communication program;

• Target speed management initiatives at sites and on highways that offer the greatest opportunity for making a significant reduction in speeding-related crashes;

• Provide speed management program information and training opportunities for traffic court judges and prosecutors that outline the negative effects of speeding on the quality of life in their communities;

• Provide sentencing guidelines to ensure and promote consistent treatment of violators in order to defuse any public perception that speed limits are arbitrary or capricious; and

• Promote and provide speed management workshops within communities to enhance communications and support for the implementation of a comprehensive, balanced and effective speed management program.

VII. Data and Evaluation

An evaluation component is a critical element of any speed management program. The evaluation design should measure the impact and effectiveness of a comprehensive speed management program on traffic fatalities, injuries and crashes and provide information for future program revisions, improvement and planning. The State should aid established Speed Management Working Groups by providing the leadership, training and technical assistance necessary to:

• Include an evaluation component in the initial program planning efforts to ensure that data will be available and that sufficient resources will be allocated;

• Provide reports regularly to a Speed Management Working Group, project and program managers; law enforcement commanders and officers; transportation engineers; members of the highway safety, health and medical communities; public and private sectors; and other traffic safety stakeholders;

• Use evaluation results to verify problem identification, guide future speed management activities and assist in justifying resources to legislative bodies;

• Conduct surveys to determine program effectiveness and public knowledge and attitudes about the speed management program;

• Analyze speed compliance and speeding-related crashes in areas with actual hazards to the public;

• Evaluate the effectiveness of speed management activities provided in relation to other priority traffic safety areas; and

• Maintain and report traffic data to the SHSO and other appropriate repositories, including the FBI Uniform Crime Reports, FMCSA's SAFETYNET system and annual statewide reports.

Highway Safety Program Guideline No. 20 Occupant Protection (August 2006)

Each State, in cooperation with its political subdivisions and tribal governments and other parties as appropriate, should develop and implement a comprehensive highway safety program, reflective of State demographics, to achieve a significant reduction in traffic crashes, fatalities and injuries on public roads. The highway safety program should include a comprehensive occupant protection program that educates and motivates the public to properly use available motor vehicle occupant protection systems. A combination of legislation and use requirements, enforcement, communication, education and incentive strategies is necessary to achieve significant, lasting increases in safety belt and child safety seat usage. This guideline describes the components that a State occupant protection program should include and the criteria that the program components should meet.

I. Program Management

Each State should have centralized program planning, implementation and coordination to achieve and sustain high rates of safety belt use. Evaluation should be used to revise existing programs, develop new programs and determine progress and success. The State Highway Safety Office (SHSO) should:

• Provide leadership, training and technical assistance to other State agencies and local occupant protection programs and projects;

• Establish and convene an occupant protection advisory task force or coalition to organize and generate broad-based support for programs. The coalition should include agencies and organizations that are representative of the State's demographic composition and critical to the implementation of occupant protection initiatives;

• Integrate occupant protection programs into community/corridor traffic safety and other injury prevention programs; and

• Evaluate the effectiveness of the State's occupant protection program.

II. Legislation, Regulation and Policy

Each State should enact and enforce occupant protection use laws, regulations and policies to provide clear guidance to the public concerning motor vehicle occupant protection systems. This legal framework should include:

• Legislation permitting primary enforcement that requires all motor vehicle occupants to use systems provided by the vehicle manufacturer;

• Legislation permitting primary enforcement that requires that children birth to 16 years old (or the State's driving age) be properly restrained in an appropriate child restraint system (i.e., certified by the manufacturer to meet all applicable Federal safety standards) or safety belt;

• Legislation permitting primary enforcement that requires children under 13 years old to be properly restrained in the rear seat (unless all available rear seats are occupied by younger children);

• Graduated Driver Licensing (GDL) laws that include three stages of licensure, and that place restrictions and sanctions on high-risk driving situations for novice drivers (i.e., nighttime driving restrictions, passenger restrictions, zero tolerance, required safety belt use);

• Regulations requiring employees and contractors at all levels of government to wear safety belts when traveling on official business;

• Official policies requiring that organizations receiving Federal highway safety program grant funds develop and enforce an employee safety belt use policy; and

• Encouragement to motor vehicle insurers to offer economic incentives for policyholders who wear safety belts and secure children in child safety seats or other appropriate restraints.

III. Enforcement Program

Each State should conduct frequent, high-visibility law enforcement efforts, coupled with communication strategies, to increase safety belt and child safety seat use. Essential components of a law enforcement program include:

• Written, enforced safety belt use policies for law enforcement agencies with sanctions for noncompliance to protect law enforcement officers from harm and for officers to serve as role models for the motoring public;

• Vigorous enforcement of safety belt and child safety seat laws, including citations and warnings;

• Accurate reporting of occupant protection system information on police accident report forms, including safety belt and child safety seat use or non-use, restraint type, and airbag presence and deployment;

• Communication campaigns to inform the public about occupant protection laws and related enforcement activities;

• Routine monitoring of citation rates for non-use of safety belts and child safety seats;

• Use of National Child Passenger Safety Certification (basic and in-service) for law enforcement officers; and

• Utilization of law enforcement liaisons, for activities such as promotion of national and local mobilizations and increasing law enforcement participation in such mobilizations and collaboration with local chapters of police groups and associations that represent diverse groups to gain support for enforcement efforts.

IV. Communication Program

As part of each State's communication program, the State should enlist the support of a variety of media, including mass media, to improve public awareness and knowledge and to support enforcement efforts to about safety belts, air bags, and child safety seats. Communication programs and materials should be culturally relevant and multilingual as appropriate. To sustain or increase rates of safety belt and child safety seat use, a well organized, effectively managed communication program should:

• Identify specific audiences (e.g., low belt use, high-risk motorists) and develop messages appropriate for these audiences;

• Address the enforcement of the State's safety belt and child passenger safety laws; the safety benefits of regular, correct safety belt (both manual and automatic) and child safety seat use; and the additional protection provided by air bags;

• Capitalize on special events, such as nationally recognized safety and injury prevention weeks and local enforcement campaigns;

• Provide materials and media campaigns in more than one language as necessary;

• Use national themes and materials;

• Participate in national programs to increase safety belt and child safety seat use and use law enforcement as the State's contribution to obtaining national public awareness through concentrated, simultaneous activity;

• Utilize paid media, as appropriate;

• Publicize safety belt use surveys and other relevant statistics;

• Encourage news media to report safety belt use and non-use in motor vehicle crashes;

• Involve media representatives in planning and disseminating communication campaigns;

• Encourage private sector groups to incorporate safety belt use messages into their media campaigns;

• Utilize and involve all media outlets: television, radio, print, signs, billboards, theaters, sports events, health fairs; and

• Evaluate all communication campaign efforts.

V. Occupant Protection for Children Program

Each State should enact occupant protection laws that require the correct restraint of all children, in all seating positions and in every vehicle. Regulations and policies should exist that provide clear guidance to the motoring public concerning occupant protection for children. Each State should require that children birth to 16 years old (or the State's driving age) be properly restrained in the appropriate child restraint system or safety belt. Gaps in State child passenger safety and safety belt laws should be closed to ensure that all children are covered in all seating positions, with requirements for age-appropriate child restraint use. Key provisions of the law should include: driver responsibility for ensuring that children are properly restrained; proper restraint of children under 13 years of age in the rear seat (unless all available rear seats are occupied by younger children); a requirement that passengers be in designated seating positions and a ban on passengers in the cargo areas of light trucks; and a limit on the number of passengers based on the number of available safety belts in the vehicle. To achieve these objectives, State occupant protection programs for children should:

• Collect and analyze key data elements in order to evaluate the program progress;

• Assure that adequate and accurate training is provided to the professionals who deliver and enforce the occupant protection programs for parents and caregivers;

• Assure that the capability exists to train and retain nationally certified child passenger safety technicians to address attrition of trainers or changing public demographics;

• Promote the use of child restraints and assure that a plan has been developed to provide an adequate number of inspection stations and clinics, which meet minimum quality criteria;

• Continue programs and activities to increase the use of booster seats by children who outgrow infant or convertible child safety seats but are still too small to safely use safety belts.

• Maintain a strong law enforcement program that includes vigorous enforcement of the child occupant protection laws;

• Enlist the support of the media to increase public awareness about child occupant protection laws and the use of child restraints. Strong efforts should be made to reach underserved populations;

• Assure that the child occupant protection programs at the local level are periodically assessed and that programs are designed to meet the unique demographic needs of the community;

• Establish the infrastructure to systematically coordinate the array of child occupant protection program components;

• Encourage law enforcement participation in the National Child Passenger Safety Certification (basic and in-service) training for law enforcement officers; and

• Consider carefully crafted and administered child safety seat subsidy and/or give-away programs.

VI. Outreach Program

Each State should encourage extensive statewide and community involvement in occupant protection education by involving individuals and organizations outside the traditional highway safety community. Representation from the health, business and education sectors, and from diverse populations, within the community should be encouraged. Community involvement should broaden public support for the State's programs and increase a State's ability to deliver highway safety education programs. To encourage statewide and community involvement, States should:

• Establish a coalition or task force of individuals and organizations to actively promote use of occupant protection systems;

• Create an effective communications network among coalition members to keep members informed about issues;

• Provide culturally relevant materials and resources necessary to conduct occupant protection education programs, especially directed toward young people, in local settings; and

• Provide materials and resources necessary to conduct occupant protection education programs, especially directed toward specific cultural or otherwise diverse populations represented in the State and in its political subdivisions.

States should undertake a variety of outreach programs to achieve statewide and community involvement in occupant protection education, as described below. Programs should include outreach to diverse populations, health and medical communities, schools and employers.

A. Diverse Populations

Each State should work closely with individuals and organizations that represent the various ethnic and cultural populations reflected in State demographics. Individuals from these groups might not be reached through traditional communication markets. Community leaders and representatives from the various ethnic and cultural groups and organizations will help States to increase the use of child safety seats and safety belts. The State should:

• Evaluate the need for, and provide, if necessary, materials and resources in multiple languages;

• Collect and analyze data on fatalities and injuries in diverse communities;

• Ensure representation of diverse groups on State occupant protection coalitions and other work groups;

• Provide guidance to grantees on conducting outreach in diverse communities;

• Utilize leaders from diverse communities as spokespeople to promote safety belt use and child safety seat; and

• Conduct outreach efforts to diverse organizations and populations during law enforcement mobilization periods.

B. Health and Medical Communities

Each State should integrate occupant protection into health programs. The failure of drivers and passengers to use occupant protection systems is a major public health problem that must be recognized by the medical and health care communities. The SHSO, the State Health Department and other State or local medical organizations should collaborate in developing programs that:

• Integrate occupant protection into professional health training curricula and comprehensive public health planning;

• Promote occupant protection systems as a health promotion/injury prevention measure;

• Require public health and medical personnel to use available motor vehicle occupant protection systems during work hours;

• Provide technical assistance and education about the importance of motor vehicle occupant protection to primary caregivers (e.g., doctors, nurses, clinic staff);

• Include questions about safety belt use in health risk appraisals;

• Utilize health care providers as visible public spokespeople for safety belt use and child safety seat use;

• Provide information about the availability of child safety seats at, and integrate child safety seat inspections into, maternity hospitals and other prenatal and natal care centers; and

• Collect, analyze and publicize data on additional injuries and medical expenses resulting from non-use of occupant protection devices.

C. Schools

Each State should encourage local school boards and educators to incorporate occupant protection education into school curricula. The SHSO in cooperation with the State Department of Education should:

• Ensure that highway safety and traffic-related injury control, in general, and occupant protection, in particular, are included in the State-approved K-12 health and safety education curricula and textbooks;

• Establish and enforce written policies requiring that school employees use safety belts when operating a motor vehicle on the job;

• Encourage active promotion of regular safety belt use through classroom and extracurricular activities as well as in school-based health clinics;

• Work with School Resource Officers (SROs) to promote safety belt use among high school students; and

• Establish and enforce written school policies that require students driving to and from school to wear safety belts. Violation of these policies should result in revocation of parking or other campus privileges for a stated period of time.

D. Employers

Each State and local subdivision should encourage all employers to require safety belt use on the job as a condition of employment. Private sector employers should follow the lead of Federal and State government employers and comply with Executive Order 13043, “Increasing Seat Belt Use in the United States” as well as all applicable Federal Motor Carrier Safety Administration (FMCSA) Regulations or Occupational Safety and Health Administration (OSHA) regulations requiring private business employees to use safety belts on the job. All employers should:

• Establish and enforce a safety belt use policy with sanctions for non-use; and

• Conduct occupant protection education programs for employees on their safety belt use policies and the safety benefits of motor vehicle occupant protection devices.

VII. Data and Program Evaluation

Each State should access and analyze reliable data sources for problem identification and program planning. Each State should conduct several different types of evaluation to effectively measure progress and to plan and implement new program strategies. Program management should:

• Conduct and publicize at least one statewide observational survey of safety belt and child safety seat use annually, ensuring that it meets current, applicable Federal guidelines;

• Maintain trend data on child safety seat use, safety belt use and air bag deployment in fatal crashes;

• Identify high-risk populations through observational usage surveys and crash statistics;

• Conduct and publicize statewide surveys of public knowledge and attitudes about occupant protection laws and systems;

• Obtain monthly or quarterly data from law enforcement agencies on the number of safety belt and child passenger safety citations and convictions;

• Evaluate the use of program resources and the effectiveness of existing general communication as well as special/high-risk population education programs;

• Obtain data on morbidity, as well as the estimated cost of crashes, and determine the relation of injury to safety belt use and non-use; and

• Ensure that evaluation results are an integral part of new program planning and problem identification.

Issued on: October 31, 2006.
Nicole R. Nason,
Administrator.

[FR Doc. E6-18749 Filed 11-6-06; 8:45 am]

BILLING CODE 4910-59-P